FEDERAL COMMUNICATIONS COMMISSION

47 CFR Part 27

[GN Docket Nos. 12-268 and 13-185; DA 13-2351]

Wireless Telecommunications Bureau Seeks Comment on a Proposal To License the 600 MHz Band Using Partial Economic Areas

AGENCY: Federal Communications Commission.

ACTION: Proposed rule; request for comments.

SUMMARY: In this document, the Commission seeks comment on an alternative proposal submitted by the Competitive Carriers Association (CCA), to adopt a new geographic area size called Partial Economic Areas to license the 600 MHz Band and seeks comment on the specific boundaries proposed by CCA, which would enable smaller and rural carriers to bid on portions of Economic areas to obtain more efficiently sized spectrum licenses.

DATES: Submit comments on or before January 9, 2014. Submit reply comments on or before January 23, 2014.

ADDRESSES: Federal Communications Commission, 445 12th Street SW., Washington, DC 20554. You may submit comments, identified by GN Docket Nos. 12-268 and 13-185, DA 13-2351, by any of the following methods:

• Federal eRulemaking Portal: http://www.regulations.gov. Follow the instructions for submitting comments.

• Federal Communications Commission's Web site: http://www.fcc.gov/cgb/ecfs/. Follow the instructions for submitting comments.

• People With Disabilities: Contact the FCC to request reasonable accommodations (accessible format documents, sign language interpreters, CART, etc.) by email: FCC504@fcc.gov or phone: (202) 418-0530 or TTY: (202) 418-0432.

• Availability of Documents. Comments, reply comments, and ex parte submissions will be available for public inspection during regular business hours in the FCC Reference Center, Federal Communications Commission, 445 12th Street SW., CY-A257, Washington, DC 20554. These documents will also be available via ECFS. Documents will be available electronically in ASCII, Microsoft Word, and/or Adobe Acrobat.

For detailed instructions for submitting comments and additional information on the rulemaking process, see the SUPPLEMENTARY INFORMATION section of this document.

FOR FURTHER INFORMATION CONTACT: Paul Malmud, Broadband Division, Wireless Telecommunications Bureau, at (202) 418-0006 or by email at Paul.Malmud@fcc.gov.

SUPPLEMENTARY INFORMATION: This is a summary of the Commission's document released on December 11, 2013, DA 13-2351, seeking comment on a proposal to license the 600 MHz Band using partial economic areas and seeking comment on the specific boundaries proposed by CCA. Copies of the document and any subsequently-filed documents in this matter may be obtained from Best Copy and Printing, Inc., in person at 445 12th Street SW., Room CY-B402, Washington, DC 20554, via telephone at (202) 488-5300, via facsimile at (202) 488-5563, or via email at fcc@bcpiweb.com. This document and any associated documents are also available for public inspection and copying during normal reference room hours at the following Commission office: FCC Reference Information Center, 445 12th Street SW., Room CY-A257, Washington, DC 20554. The complete text is also available on the Commission's Web site at http://hraunfoss.fcc.gov/edocs_public/attachmatch/DA-13-2351A1.docx. Alternative formats (computer diskette, large print, audio cassette, and Braille) are available by contacting Brian Millin at (202) 418-7426, TTY (202) 418-7365, or via email to bmillin@fcc.gov.

Synopsis

I. Synopsis

1. In Expanding the Economic and Innovation Opportunities of Spectrum Through Incentive Auctions 77 FR 69934 November 21, 2012 (NPRM), the Commission sought public comment on creating a 600 MHz band plan from the spectrum made available for flexible use through the broadcast television incentive auction. Specifically, it proposed to use geographic area licensing to license the 600 MHz band using Economic Areas (EAs). The Commission also sought comment on whether it should use geographic areas larger or smaller than EAs, such as Cellular Market Areas (CMAs). Although a number of commenters support the Commission's proposal to license the 600 MHz band on an EA basis, some commenters argue that EA licenses are too large for small and rural operators to obtain at auction or deploy. Consequently, these commenters support licensing the 600 MHz band using CMAs. Others oppose using CMAs because they do not “nest” (i.e., fit neatly) within larger EA-based license areas and because using smaller license areas can frustrate a carrier's ability to acquire a larger footprint.

2. On November 27, 2013, the Competitive Carriers Association (CCA) submitted an alternative proposed scheme for smaller license areas based on a new geographic area size that CCA calls Partial Economic Areas (PEAs). Letter from Competitive Carriers Association to FCC at page 2 (Nov. 27, 2013) available at http://apps.fcc.gov/ecfs/document/view?id=7520959815. PEAs, as described by CCA, are a subdivision of EAs based on the CMA boundaries, which ensure that some licenses consist of large population centers while other PEAs consist of less populous areas. As a result, PEAs are smaller than EAs, and separate rural from urban markets to a greater degree than EAs. Unlike CMAs, the geographic boundaries are set so that they “nest” into the larger EAs. Although CCA continues to support CMAs as the optimal license size, it argues that PEAs are preferable to EAs in the 600 MHz band because PEAs would enable smaller and rural carriers to bid on portions of EAs to obtain more efficiently sized spectrum licenses. The counties contained in each PEA are listed in the appendix. On December 3, 2013, AT&T filed an ex parte letter urging the Commission to seek public comment on the PEA proposal and, as described further below, seek comment on how that proposal could be effectuated within a package-bidding framework. Letter from AT&T to FCC at page 3 (Dec. 3, 2013) available at http://apps.fcc.gov/ecfs/document/view?id=7520960131.

3. The Wireless Telecommunications Bureau (WTB) hereby seeks comment on CCA's proposed PEA licensing scheme, including the specific makeup and boundaries of the individual PEAs proposed by CCA. WTB encourages commenters to address the geographic area licensing issues raised in the NPRM, including the importance of using a license scheme that “nests” into EAs. We also seek comment on other new geographic licensing proposals that address the issues under consideration in this document. See, Letter from Rural Wireless Association and National Telecommunications Cooperative Association to FCC (Dec. 6, 2013) available at http://apps.fcc.gov/ecfs/document/view?id=7520961063. In addition, to the extent parties may be interested in applying the PEA construct to other bands in which we are considering the issue of geographic license size, such as in Amendment of the Commission's Rules with Regard to Commercial Operations in the 1695-1710 MHz, 1755-1780 MHz, and 2155-2180 MHz Bands 78 FR 51559 August 20, 2013 (AWS-3 NPRM), WTB seeks comment on applying this approach.

4. As discussed above, larger carriers express concern that it is more difficult to acquire a national or regional footprint using smaller geographic area licenses. To address such concerns, and consistent with the statutory directive to consider assigning licenses that cover geographic areas of difference sizes, we seek comment on approaches that might enable interested parties to seek packages of 600 MHz licenses covering multiple PEAs. CCA and smaller carriers oppose the use of package bidding generally, and specifically with respect to a package of populous PEAs, contending that most packages would disproportionately burden rural and regional competitive carriers and undermine the benefits of the PEA hybrid proposal. CCA proposes that if the Commission adopts package bidding in conjunction with a PEA-based licensing approach, any package should be no more than the ten largest PEAs by population. AT&T, on the other hand, supports a national package bidding approach in conjunction with a PEA-based licensing approach, or at a minimum, a package that consists of the top 100 markets. Should the Commission offer geographic package bidding to 600 MHz auction bidders in conjunction with a PEA-based licensing approach? If so, how should the package(s) be composed? WTB seeks comment on these issues and, in particular, on the concept of a single package containing the top markets. WTB also seeks comment on the extent to which the licensing and package bidding concepts discussed herein may or may not affect the design of the incentive auction.

II. Procedural Matters

5. Ex Parte Presentations—Permit-But-Disclose Proceeding: This matter shall be treated as a “permit-but-disclose” proceeding in accordance with the ex parte rules. Persons making oral ex parte presentations are reminded that memoranda summarizing the presentations must contain summaries of the substance of the presentations and not merely a listing of the subjects discussed. More than a one- or two-sentence description of the views and arguments presented generally is required. Other requirements pertaining to oral and written presentations are set forth in § 1.1206(b) of the rules.

6. Comment Period and Filing Procedures: To allow the Commission to consider fully all substantive issues regarding the CCA public notice in as timely and efficient a manner as possible, commenters should raise all issues in their initial filings. New issues may not be raised in responses or replies. A party or interested person seeking to raise a new issue after the pleading cycle has closed must show good cause why it was not possible for it to have raised the issue previously. Submissions after the pleading cycle has closed that seek to raise new issues based on new facts or newly discovered facts should be filed within 15 days after such facts are discovered. Absent such a showing of good cause, any issues not timely raised may be disregarded by the Commission.

7. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• For ECFS filers, in completing the transmittal screen, commenters should include their full name, U.S. Postal Service mailing address, and the applicable docket number. Parties may also submit an electronic comment by Internet email. To get filing instructions for email comments, commenters should send an email to ecfs@fcc.gov, and should include the following words in the body of the message, “get form.” A sample form and directions will be sent in reply.

• Paper Filers: the original and one copy of each filing must be filed by hand or messenger delivery, by commercial overnight courier, or by first-class or overnight U.S. Postal Service mail. All filings must be addressed to the Commission's Secretary, Office of the Secretary, Federal Communications Commission, 445 12th Street SW., Washington, DC 20554.

• All hand-delivered or messenger-delivered paper filings for the Commission's Secretary must be delivered to FCC Headquarters at 445 12th Street SW., Room TW-A325, Washington, DC 20554. The filing hours at this location are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743. U.S. Postal Service first-class, Express, and Priority mail should be addressed to 445 12th Street SW., Washington, DC 20554. All filings must be addressed to the Commission's Secretary, Office of the Secretary, Federal Communications Commission, 445 12th Street SW., Washington, DC 20554.

• One copy of each pleading must be delivered electronically, by email or facsimile, or if delivered as paper copy, by hand or messenger delivery, by commercial overnight courier, or by first-class or overnight U.S. Postal Service mail (according to the procedures set forth above for paper filings), to: (1) The Commission's duplicating contractor, Best Copy and Printing, Inc., at fcc@bcpiweb.com or (202) 488-5563 (facsimile); and (2) Paul Malmud, Broadband Division, WTB, at Paul.Malmud@fcc.gov or (202) 418-7247 (facsimile). Any submission that is emailed to Best Copy and Printing should include in the subject line of the email: (1) The docket number of this proceeding, which is listed on the first page of this public notice; (2) the name of the submitting party; and (3) a brief description or title identifying the type of document being submitted (e.g., GN Docket No. 12-268, WT Docket No. 13-185, [name of submitting party], Notice of Ex Parte Communication).

• People With Disabilities. To request materials in accessible formats for people with disabilities (braille, large print, electronic files, audio format), send an email to fcc504@fcc.gov or call the Consumer & Governmental Affairs Bureau at 202-418-0530 (voice), 202-418-0432 (tty).

• Availability of Documents. Comments, reply comments, and ex parte submissions will be available for public inspection during regular business hours in the FCC Reference Center, Federal Communications Commission, 445 12th Street SW., CY-A257, Washington, DC 20554.

These documents will also be available via ECFS. Documents will be available electronically in ASCII, Microsoft Word, and/or Adobe Acrobat.

8. Initial Regulatory Flexibility Analysis: The NPRM and AWS-3 NPRM in this proceeding included an Initial Regulatory Flexibility Analysis (IRFA) pursuant to 5 U.S.C. 603, exploring the potential impact of the Commission's proposal on small entities. The matters discussed in this notice do not modify in any way the IRFAs we previously issued.

9. Initial Paperwork Reduction Act of 1995 Analysis: The NPRM and AWS-3 NPRM in this proceeding included an Initial Paperwork Reduction Act of 1995 Analysis. The matters discussed in this notice do not modify in any way the Initial Paperwork Reduction Act of 1995 Analysis we previously issued.

10. Appendix: PEA County List

PEA No. | State | County | Pop 2010 | EA No. | CMA No.
1 | ME | Penobscot County | 153923 | 1 | 224
1 | ME | Kennebec County | 122151 | 1 | 465
1 | ME | Aroostook County | 71870 | 1 | 464
1 | ME | Hancock County | 54418 | 1 | 466
1 | ME | Somerset County | 52228 | 1 | 464
1 | ME | Waldo County | 38786 | 1 | 465
1 | ME | Washington County | 32856 | 1 | 466
1 | ME | Piscataquis County | 17535 | 1 | 464
2 | ME | Cumberland County | 281674 | 2 | 152
2 | ME | York County | 197131 | 2 | 156
2 | ME | Knox County | 39736 | 2 | 465
2 | ME | Sagadahoc County | 35293 | 2 | 152
2 | ME | Lincoln County | 34457 | 2 | 465
3 | ME | Androscoggin County | 107702 | 2 | 279
3 | ME | Oxford County | 57833 | 2 | 463
3 | ME | Franklin County | 30768 | 2 | 463
4 | MA | Middlesex County | 1503085 | 3 | 6
4 | MA | Essex County | 743159 | 3 | 6
4 | MA | Suffolk County | 722023 | 3 | 6
4 | MA | Norfolk County | 670850 | 3 | 6
4 | MA | Plymouth County | 494919 | 3 | 6
4 | MA | Barnstable County | 215888 | 3 | 471
4 | MA | Dukes County | 16535 | 3 | 471
4 | MA | Nantucket County | 10172 | 3 | 471
5 | NH | Hillsborough County | 400721 | 3 | 133
5 | NH | Rockingham County | 295223 | 3 | 6
6 | NH | Merrimack County | 146445 | 3 | 549
6 | NH | Strafford County | 123143 | 3 | 156
6 | NH | Belknap County | 60088 | 3 | 549
6 | NH | Carroll County | 47818 | 3 | 549
7 | MA | Worcester County | 798552 | 3 | 55
7 | RI | Providence County | 626667 | 3 | 38
7 | MA | Bristol County | 548285 | 3 | 76
7 | RI | Kent County | 166158 | 3 | 38
7 | RI | Washington County | 126979 | 3 | 38
7 | RI | Newport County | 82888 | 3 | 624
7 | RI | Bristol County | 49875 | 3 | 38
8 | NH | Grafton County | 89118 | 3 | 548
8 | NH | Cheshire County | 77117 | 3 | 548
8 | VT | Windsor County | 56670 | 3 | 680
8 | VT | Windham County | 44513 | 3 | 680
8 | NH | Sullivan County | 43742 | 3 | 548
8 | NH | Coos County | 33055 | 3 | 548
8 | VT | Orange County | 28936 | 3 | 679
8 | VT | Essex County | 6306 | 3 | 679
9 | CT | New London County | 274055 | 10 | 154
9 | CT | Windham County | 118428 | 10 | 358
10 | CT | Hartford County | 894014 | 10 | 32
10 | MA | Hampden County | 463490 | 10 | 63
10 | CT | Middlesex County | 165676 | 10 | 32
10 | MA | Hampshire County | 158080 | 10 | 63
10 | CT | Tolland County | 152691 | 10 | 32
11 | VT | Chittenden County | 156545 | 4 | 248
11 | VT | Washington County | 59534 | 4 | 679
11 | VT | Franklin County | 47746 | 4 | 679
11 | VT | Caledonia County | 31227 | 4 | 679
11 | VT | Orleans County | 27231 | 4 | 679
11 | VT | Lamoille County | 24475 | 4 | 679
11 | VT | Grand Isle County | 6970 | 4 | 248
12 | NY | Dutchess County | 297488 | 10 | 151
12 | CT | Litchfield County | 189927 | 10 | 357
12 | MA | Berkshire County | 131219 | 10 | 213
12 | MA | Franklin County | 71372 | 10 | 470
12 | VT | Bennington County | 37125 | 10 | 680
13 | NY | Clinton County | 82128 | 4 | 560
13 | VT | Rutland County | 61642 | 4 | 680
13 | NY | Franklin County | 51599 | 4 | 560
13 | NY | Essex County | 39370 | 4 | 560
13 | VT | Addison County | 36821 | 4 | 680
14 | NY | Kings County | 2504700 | 10 | 1
14 | NY | Queens County | 2230722 | 10 | 1
14 | NY | New York County | 1585873 | 10 | 1
14 | NY | Suffolk County | 1493350 | 10 | 1
14 | NY | Bronx County | 1385108 | 10 | 1
14 | NY | Nassau County | 1339532 | 10 | 1
14 | NY | Westchester County | 949113 | 10 | 1
14 | CT | Fairfield County | 916829 | 10 | 42
14 | NJ | Bergen County | 905116 | 10 | 1
14 | CT | New Haven County | 862477 | 10 | 49
14 | NJ | Middlesex County | 809858 | 10 | 62
14 | NJ | Essex County | 783969 | 10 | 1
14 | NJ | Hudson County | 634266 | 10 | 1
14 | NJ | Monmouth County | 630380 | 10 | 70
14 | NJ | Ocean County | 576567 | 10 | 551
14 | NJ | Union County | 536499 | 10 | 1
14 | NJ | Passaic County | 501226 | 10 | 1
14 | NJ | Morris County | 492276 | 10 | 1
14 | NY | Richmond County | 468730 | 10 | 1
14 | NY | Orange County | 372813 | 10 | 144
14 | NJ | Mercer County | 366513 | 10 | 121
14 | NJ | Somerset County | 323444 | 10 | 1
14 | NY | Rockland County | 311687 | 10 | 1
14 | NY | Putnam County | 99710 | 10 | 1
15 | NY | Albany County | 304204 | 5 | 44
15 | NY | Saratoga County | 219607 | 5 | 44
15 | NY | Rensselaer County | 159429 | 5 | 44
15 | NY | Schenectady County | 154727 | 5 | 44
15 | NY | Montgomery County | 50219 | 5 | 44
16 | NY | Columbia County | 63096 | 5 | 564
16 | NY | Greene County | 49221 | 5 | 564
16 | NY | Schoharie County | 32749 | 5 | 563
17 | NY | Warren County | 65707 | 5 | 266
17 | NY | Washington County | 63216 | 5 | 266
17 | NY | Fulton County | 55531 | 5 | 560
17 | NY | Hamilton County | 4836 | 5 | 560
18 | PA | Luzerne County | 320918 | 10 | 56
18 | PA | Lackawanna County | 214437 | 10 | 56
18 | NY | Ulster County | 182493 | 10 | 563
18 | PA | Monroe County | 169842 | 10 | 56
18 | NJ | Sussex County | 149265 | 10 | 552
18 | NY | Sullivan County | 77547 | 10 | 563
18 | PA | Pike County | 57369 | 10 | 616
18 | PA | Wayne County | 52822 | 10 | 616
19 | PA | Philadelphia County | 1526006 | 12 | 4
19 | PA | Montgomery County | 799874 | 12 | 4
19 | PA | Bucks County | 625249 | 12 | 4
19 | PA | Delaware County | 558979 | 12 | 4
19 | NJ | Camden County | 513657 | 12 | 4
19 | PA | Chester County | 498886 | 12 | 4
19 | NJ | Burlington County | 448734 | 12 | 4
19 | NJ | Gloucester County | 288288 | 12 | 4
20 | DE | New Castle County | 538479 | 12 | 69
20 | NJ | Atlantic County | 274549 | 12 | 134
20 | DE | Kent County | 162310 | 12 | 359
20 | NJ | Cumberland County | 156898 | 12 | 228
20 | MD | Cecil County | 101108 | 12 | 69
20 | NJ | Cape May County | 97265 | 12 | 134
20 | NJ | Salem County | 66083 | 12 | 69
21 | PA | Lehigh County | 349497 | 10 | 58
21 | PA | Northampton County | 297735 | 10 | 58
21 | NJ | Hunterdon County | 128349 | 10 | 550
21 | NJ | Warren County | 108692 | 10 | 58
21 | PA | Carbon County | 65249 | 10 | 58
22 | NY | Oneida County | 234878 | 6 | 115
22 | NY | Jefferson County | 116229 | 6 | 559
22 | NY | St. Lawrence County | 111944 | 6 | 559
22 | NY | Herkimer County | 64519 | 6 | 115
22 | NY | Lewis County | 27087 | 6 | 559
23 | DE | Sussex County | 197145 | 14 | 359
23 | MD | Wicomico County | 98733 | 14 | 468
23 | MD | Worcester County | 51454 | 14 | 468
23 | VA | Accomack County | 33164 | 14 | 692
23 | MD | Somerset County | 26470 | 14 | 468
23 | VA | Northampton County | 12389 | 14 | 692
24 | NY | Broome County | 200600 | 6 | 122
24 | NY | Tompkins County | 101564 | 6 | 562
24 | NY | Cayuga County | 80026 | 6 | 562
24 | NY | Otsego County | 62259 | 6 | 563
24 | NY | Tioga County | 51125 | 6 | 122
24 | NY | Chenango County | 50477 | 6 | 562
24 | NY | Cortland County | 49336 | 6 | 562
24 | NY | Delaware County | 47980 | 6 | 563
24 | PA | Susquehanna County | 43356 | 6 | 122
24 | NY | Schuyler County | 18343 | 6 | 562
25 | NY | Onondaga County | 467026 | 6 | 53
25 | NY | Oswego County | 122109 | 6 | 53
25 | NY | Madison County | 73442 | 6 | 53
26 | PA | Lancaster County | 519445 | 12 | 105
26 | PA | Berks County | 411442 | 12 | 118
26 | PA | Schuylkill County | 148289 | 12 | 619
27 | NC | Pasquotank County | 40661 | 20 | 573
27 | NC | Hertford County | 24669 | 20 | 573
27 | NC | Bertie County | 21282 | 20 | 573
27 | NC | Chowan County | 14793 | 20 | 573
27 | NC | Perquimans County | 13453 | 20 | 573
27 | NC | Gates County | 12197 | 20 | 573
27 | NC | Camden County | 9980 | 20 | 573
28 | VA | Virginia Beach city | 437994 | 20 | 43
28 | VA | Norfolk city | 242803 | 20 | 43
28 | VA | Chesapeake city | 222209 | 20 | 43
28 | VA | Newport News city | 180719 | 20 | 104
28 | VA | Hampton city | 137436 | 20 | 104
28 | VA | Portsmouth city | 95535 | 20 | 43
28 | VA | Suffolk city | 84585 | 20 | 43
28 | VA | James City County | 67009 | 20 | 104
28 | VA | York County | 65464 | 20 | 104
28 | VA | Gloucester County | 36858 | 20 | 104
28 | VA | Isle of Wight County | 35270 | 20 | 689
28 | NC | Currituck County | 23547 | 20 | 43
28 | VA | Southampton County | 18570 | 20 | 689
28 | VA | Williamsburg city | 14068 | 20 | 104
28 | VA | Poquoson city | 12150 | 20 | 104
28 | VA | Mathews County | 8978 | 20 | 692
28 | VA | Franklin city | 8582 | 20 | 689
28 | VA | Surry County | 7058 | 20 | 689
29 | NC | Pitt County | 168148 | 21 | 578
29 | NC | Craven County | 103505 | 21 | 577
29 | NC | Carteret County | 66469 | 21 | 577
29 | NC | Lenoir County | 59495 | 21 | 577
29 | NC | Beaufort County | 47759 | 21 | 578
29 | NC | Dare County | 33920 | 21 | 578
29 | NC | Martin County | 24505 | 21 | 578
29 | NC | Greene County | 21362 | 21 | 577
29 | NC | Washington County | 13228 | 21 | 578
29 | NC | Pamlico County | 13144 | 21 | 577
29 | NC | Jones County | 10153 | 21 | 577
29 | NC | Hyde County | 5810 | 21 | 578
29 | NC | Tyrrell County | 4407 | 21 | 578
30 | NY | Chemung County | 88830 | 7 | 284
30 | PA | Bradford County | 62622 | 7 | 615
30 | PA | Tioga County | 41981 | 7 | 614
31 | PA | Lycoming County | 116111 | 10 | 251
31 | PA | Northumberland County | 94528 | 10 | 619
31 | PA | Columbia County | 67295 | 10 | 619
31 | PA | Union County | 44947 | 10 | 619
31 | PA | Snyder County | 39702 | 10 | 619
31 | PA | Clinton County | 39238 | 10 | 614
31 | PA | Wyoming County | 28276 | 10 | 615
31 | PA | Montour County | 18267 | 10 | 619
31 | PA | Sullivan County | 6428 | 10 | 615
32 | PA | York County | 434972 | 11 | 99
32 | PA | Dauphin County | 268100 | 11 | 84
32 | PA | Cumberland County | 235406 | 11 | 84
32 | PA | Lebanon County | 133568 | 11 | 623
32 | PA | Adams County | 101407 | 11 | 99
32 | PA | Perry County | 45969 | 11 | 84
32 | PA | Juniata County | 24636 | 11 | 622
33 | VA | Fairfax County | 1081726 | 13 | 8
33 | MD | Montgomery County | 971777 | 13 | 8
33 | MD | Prince George's County | 863420 | 13 | 8
33 | MD | Baltimore County | 805029 | 13 | 14
33 | MD | Baltimore city | 620961 | 13 | 14
33 | DC | District of Columbia | 601723 | 13 | 8
33 | MD | Anne Arundel County | 537656 | 13 | 14
33 | VA | Prince William County | 402002 | 13 | 8
33 | VA | Loudoun County | 312311 | 13 | 8
33 | MD | Howard County | 287085 | 13 | 14
33 | MD | Harford County | 244826 | 13 | 14
33 | VA | Arlington County | 207627 | 13 | 8
33 | MD | Carroll County | 167134 | 13 | 14
33 | MD | Charles County | 146551 | 13 | 8
33 | VA | Alexandria city | 139966 | 13 | 8
33 | MD | St. Mary's County | 105151 | 13 | 468
33 | MD | Calvert County | 88737 | 13 | 468
33 | VA | Manassas city | 37821 | 13 | 8
33 | VA | Fairfax city | 22565 | 13 | 8
33 | VA | Manassas Park city | 14273 | 13 | 8
33 | VA | Falls Church city | 12332 | 13 | 8
34 | VA | Chesterfield County | 316236 | 15 | 59
34 | VA | Henrico County | 306935 | 15 | 59
34 | VA | Richmond city | 204214 | 15 | 59
34 | VA | Hanover County | 99863 | 15 | 59
34 | VA | Powhatan County | 28046 | 15 | 59
34 | VA | Goochland County | 21717 | 15 | 59
34 | VA | New Kent County | 18429 | 15 | 59
34 | VA | King William County | 15935 | 15 | 692
34 | VA | Northumberland County | 12330 | 15 | 692
34 | VA | Lancaster County | 11391 | 15 | 692
34 | VA | Essex County | 11151 | 15 | 692
34 | VA | Middlesex County | 10959 | 15 | 692
34 | VA | Richmond County | 9254 | 15 | 692
34 | VA | Charles City County | 7256 | 15 | 59
34 | VA | King and Queen County | 6945 | 15 | 692
35 | VA | Stafford County | 128961 | 13 | 691
35 | VA | Spotsylvania County | 122397 | 13 | 691
35 | MD | Queen Anne's County | 47798 | 13 | 468
35 | VA | Culpeper County | 46689 | 13 | 691
35 | MD | Talbot County | 37782 | 13 | 468
35 | VA | Orange County | 33481 | 13 | 691
35 | MD | Caroline County | 33066 | 13 | 468
35 | MD | Dorchester County | 32618 | 13 | 468
35 | VA | Caroline County | 28545 | 13 | 692
35 | VA | Fredericksburg city | 24286 | 13 | 691
35 | VA | King George County | 23584 | 13 | 692
35 | MD | Kent County | 20197 | 13 | 468
35 | VA | Westmoreland County | 17454 | 13 | 692
35 | VA | Madison County | 13308 | 13 | 691
36 | NY | Monroe County | 744344 | 7 | 34
36 | NY | Ontario County | 107931 | 7 | 34
36 | NY | Steuben County | 98990 | 7 | 561
36 | NY | Wayne County | 93772 | 7 | 34
36 | NY | Livingston County | 65393 | 7 | 34
36 | NY | Genesee County | 60079 | 7 | 561
36 | NY | Orleans County | 42883 | 7 | 34
36 | NY | Wyoming County | 42155 | 7 | 561
36 | NY | Seneca County | 35251 | 7 | 562
36 | NY | Yates County | 25348 | 7 | 562
37 | VA | Prince George County | 35725 | 15 | 235
37 | VA | Mecklenburg County | 32727 | 15 | 688
37 | VA | Petersburg city | 32420 | 15 | 235
37 | VA | Dinwiddie County | 28001 | 15 | 235
37 | VA | Prince Edward County | 23368 | 15 | 687
37 | VA | Hopewell city | 22591 | 15 | 235
37 | VA | Brunswick County | 17434 | 15 | 688
37 | VA | Colonial Heights city | 17411 | 15 | 235
37 | VA | Buckingham County | 17146 | 15 | 687
37 | VA | Nottoway County | 15853 | 15 | 688
37 | VA | Lunenburg County | 12914 | 15 | 688
37 | VA | Amelia County | 12690 | 15 | 688
37 | VA | Charlotte County | 12586 | 15 | 687
37 | VA | Greensville County | 12243 | 15 | 689
37 | VA | Sussex County | 12087 | 15 | 689
37 | VA | Cumberland County | 10052 | 15 | 687
37 | VA | Emporia city | 5927 | 15 | 689
38 | NC | Onslow County | 177772 | 21 | 258
38 | NC | Wayne County | 122623 | 21 | 574
38 | NC | Duplin County | 58505 | 21 | 576
39 | PA | Blair County | 127089 | 9 | 225
39 | PA | Mifflin County | 46682 | 9 | 622
39 | PA | Huntingdon County | 45913 | 9 | 622
40 | NC | Nash County | 95840 | 19 | 572
40 | NC | Wilson County | 81234 | 19 | 572
40 | NC | Franklin County | 60619 | 19 | 571
40 | NC | Granville County | 59916 | 19 | 571
40 | NC | Edgecombe County | 56552 | 19 | 572
40 | NC | Halifax County | 54691 | 19 | 572
40 | NC | Vance County | 45422 | 19 | 571
40 | NC | Person County | 39464 | 19 | 571
40 | NC | Northampton County | 22099 | 19 | 572
40 | NC | Warren County | 20972 | 19 | 571
41 | PA | Centre County | 153990 | 9 | 259
41 | PA | Clearfield County | 81642 | 9 | 618
41 | PA | Jefferson County | 45200 | 9 | 618
41 | PA | Elk County | 31946 | 9 | 613
41 | PA | Cameron County | 5085 | 9 | 613
42 | NC | New Hanover County | 202667 | 25 | 218
42 | NC | Brunswick County | 107431 | 25 | 218
42 | NC | Columbus County | 58098 | 25 | 575
42 | NC | Pender County | 52217 | 25 | 576
43 | MD | Frederick County | 233385 | 13 | 469
43 | PA | Franklin County | 149618 | 13 | 621
43 | MD | Washington County | 147430 | 13 | 257
43 | MD | Allegany County | 75087 | 13 | 269
43 | MD | Garrett County | 30097 | 13 | 467
43 | WV | Mineral County | 28212 | 13 | 269
43 | PA | Fulton County | 14845 | 13 | 621
44 | NC | Johnston County | 168878 | 19 | 574
44 | NC | Harnett County | 114678 | 19 | 574
44 | NC | Chatham County | 63505 | 19 | 570
44 | NC | Sampson County | 63431 | 19 | 576
44 | NC | Lee County | 57866 | 19 | 570
45 | VA | Albemarle County | 98970 | 15 | 256
45 | VA | Charlottesville city | 43475 | 15 | 256
45 | VA | Louisa County | 33153 | 15 | 691
45 | VA | Fluvanna County | 25691 | 15 | 256
45 | VA | Greene County | 18403 | 15 | 256
45 | VA | Nelson County | 15020 | 15 | 686
46 | NY | Chautauqua County | 134905 | 8 | 561
46 | NY | Cattaraugus County | 80317 | 8 | 561
46 | NY | Allegany County | 48946 | 8 | 561
46 | PA | McKean County | 43450 | 8 | 613
46 | PA | Potter County | 17457 | 8 | 614
47 | NC | Wake County | 900993 | 19 | 71
47 | NC | Durham County | 267587 | 19 | 71
47 | NC | Orange County | 133801 | 19 | 71
48 | PA | Cambria County | 143679 | 9 | 143
48 | PA | Somerset County | 77742 | 9 | 143
48 | PA | Bedford County | 49762 | 9 | 621
49 | NY | Erie County | 919040 | 8 | 25
49 | NY | Niagara County | 216469 | 8 | 25
50 | NC | Cumberland County | 319431 | 22 | 149
51 | WV | Berkeley County | 104169 | 13 | 704
51 | VA | Frederick County | 78305 | 13 | 690
51 | VA | Fauquier County | 65203 | 13 | 690
51 | WV | Jefferson County | 53498 | 13 | 704
51 | VA | Shenandoah County | 41993 | 13 | 690
51 | VA | Warren County | 37575 | 13 | 690
51 | WV | Randolph County | 29405 | 13 | 705
51 | VA | Winchester city | 26203 | 13 | 690
51 | VA | Page County | 24042 | 13 | 690
51 | WV | Hampshire County | 23964 | 13 | 704
51 | WV | Morgan County | 17541 | 13 | 704
51 | VA | Clarke County | 14034 | 13 | 690
51 | WV | Hardy County | 14025 | 13 | 704
51 | WV | Grant County | 11937 | 13 | 704
51 | VA | Rappahannock County | 7373 | 13 | 690
51 | WV | Tucker County | 7141 | 13 | 705
52 | NC | Robeson County | 134168 | 22 | 575
52 | NC | Hoke County | 46952 | 22 | 575
52 | NC | Scotland County | 36157 | 22 | 569
52 | NC | Bladen County | 35190 | 22 | 575
53 | SC | Horry County | 269291 | 25 | 629
53 | SC | Georgetown County | 60158 | 25 | 629
53 | SC | Marion County | 33062 | 25 | 629
53 | SC | Dillon County | 32062 | 25 | 628
54 | NC | Moore County | 88247 | 18 | 570
54 | NC | Richmond County | 46639 | 18 | 569
54 | NC | Montgomery County | 27798 | 18 | 569
55 | PA | Butler County | 183862 | 53 | 617
55 | PA | Lawrence County | 91108 | 53 | 617
55 | PA | Indiana County | 88880 | 53 | 618
55 | PA | Armstrong County | 68941 | 53 | 617
56 | VA | Rockingham County | 76314 | 16 | 686
56 | VA | Augusta County | 73750 | 16 | 686
56 | VA | Harrisonburg city | 48914 | 16 | 686
56 | WV | Greenbrier County | 35480 | 16 | 707
56 | VA | Staunton city | 23746 | 16 | 686
56 | VA | Rockbridge County | 22307 | 16 | 685
56 | VA | Waynesboro city | 21006 | 16 | 686
56 | VA | Alleghany County | 16250 | 16 | 685
56 | WV | Pocahontas County | 8719 | 16 | 705
56 | WV | Pendleton County | 7695 | 16 | 704
56 | VA | Lexington city | 7042 | 16 | 685
56 | VA | Buena Vista city | 6650 | 16 | 685
56 | VA | Covington city | 5961 | 16 | 685
56 | VA | Bath County | 4731 | 16 | 685
56 | VA | Highland County | 2321 | 16 | 686
57 | PA | Crawford County | 88765 | 54 | 612
57 | PA | Venango County | 54984 | 54 | 612
57 | PA | Warren County | 41815 | 54 | 612
57 | PA | Clarion County | 39988 | 54 | 617
57 | PA | Forest County | 7716 | 54 | 612
58 | PA | Allegheny County | 1223348 | 53 | 13
58 | PA | Westmoreland County | 365169 | 53 | 13
58 | PA | Washington County | 207820 | 53 | 13
58 | PA | Beaver County | 170539 | 53 | 13
59 | SC | Florence County | 136885 | 25 | 264
59 | SC | Darlington County | 68681 | 25 | 628
59 | SC | Williamsburg County | 34423 | 25 | 630
60 | VA | Roanoke city | 97032 | 17 | 157
60 | VA | Roanoke County | 92376 | 17 | 157
60 | VA | Botetourt County | 33148 | 17 | 157
60 | VA | Salem city | 24802 | 17 | 157
60 | VA | Craig County | 5190 | 17 | 157
61 | NC | Guilford County | 488406 | 18 | 47
61 | NC | Forsyth County | 350670 | 18 | 47
61 | NC | Davidson County | 162878 | 18 | 47
61 | NC | Alamance County | 151131 | 18 | 280
61 | NC | Randolph County | 141752 | 18 | 47
61 | NC | Stokes County | 47401 | 18 | 47
61 | NC | Davie County | 41240 | 18 | 579
61 | NC | Yadkin County | 38406 | 18 | 47
62 | PA | Erie County | 280566 | 54 | 130
63 | PA | Fayette County | 136606 | 53 | 620
63 | WV | Monongalia County | 96189 | 53 | 703
63 | WV | Harrison County | 69099 | 53 | 703
63 | WV | Marion County | 56418 | 53 | 703
63 | PA | Greene County | 38686 | 53 | 620
63 | WV | Preston County | 33520 | 53 | 703
63 | WV | Upshur County | 24254 | 53 | 705
63 | WV | Taylor County | 16895 | 53 | 703
63 | WV | Barbour County | 16589 | 53 | 703
63 | WV | Lewis County | 16372 | 53 | 702
63 | WV | Doddridge County | 8202 | 53 | 702
64 | VA | Montgomery County | 94392 | 17 | 683
64 | VA | Lynchburg city | 75568 | 17 | 203
64 | VA | Bedford County | 68676 | 17 | 684
64 | VA | Franklin County | 56159 | 17 | 684
64 | VA | Campbell County | 54842 | 17 | 203
64 | VA | Halifax County | 36241 | 17 | 687
64 | VA | Pulaski County | 34872 | 17 | 683
64 | VA | Amherst County | 32353 | 17 | 203
64 | VA | Carroll County | 30042 | 17 | 683
64 | VA | Wythe County | 29235 | 17 | 682
64 | VA | Giles County | 17286 | 17 | 683
64 | VA | Radford city | 16408 | 17 | 683
64 | VA | Grayson County | 15533 | 17 | 682
64 | VA | Floyd County | 15279 | 17 | 683
64 | VA | Appomattox County | 14973 | 17 | 203
64 | WV | Monroe County | 13502 | 17 | 707
64 | NC | Alleghany County | 11155 | 17 | 567
64 | VA | Bedford city | 6222 | 17 | 684
65 | SC | Charleston County | 350209 | 26 | 90
65 | SC | Berkeley County | 177843 | 26 | 90
65 | SC | Dorchester County | 136555 | 26 | 90
65 | SC | Colleton County | 38892 | 26 | 632
66 | SC | Sumter County | 107456 | 24 | 630
66 | SC | Orangeburg County | 92501 | 24 | 631
66 | SC | Kershaw County | 61697 | 24 | 628
66 | SC | Clarendon County | 34971 | 24 | 630
66 | SC | Lee County | 19220 | 24 | 630
66 | SC | Calhoun County | 15175 | 24 | 631
67 | NC | Rockingham County | 93643 | 18 | 571
67 | NC | Surry County | 73673 | 18 | 567
67 | NC | Wilkes County | 69340 | 18 | 567
67 | VA | Pittsylvania County | 63506 | 18 | 262
67 | VA | Henry County | 54151 | 18 | 684
67 | VA | Danville city | 43055 | 18 | 262
67 | NC | Caswell County | 23719 | 18 | 571
67 | VA | Patrick County | 18490 | 18 | 683
67 | VA | Martinsville city | 13821 | 18 | 684
68 | SC | York County | 226073 | 23 | 633
68 | SC | Lancaster County | 76652 | 23 | 633
68 | SC | Chesterfield County | 46734 | 23 | 628
68 | SC | Chester County | 33140 | 23 | 627
68 | SC | Marlboro County | 28933 | 23 | 628
68 | NC | Anson County | 26948 | 23 | 569
69 | NC | Cabarrus County | 178011 | 23 | 579
69 | NC | Iredell County | 159437 | 23 | 579
69 | NC | Rowan County | 138428 | 23 | 579
69 | NC | Cleveland County | 98078 | 23 | 568
69 | NC | Lincoln County | 78265 | 23 | 568
69 | NC | Rutherford County | 67810 | 23 | 568
69 | NC | Stanly County | 60585 | 23 | 579
70 | FL | Miami-Dade County | 2496435 | 31 | 12
70 | FL | Broward County | 1748066 | 31 | 12
70 | FL | Palm Beach County | 1320134 | 31 | 72
70 | FL | Monroe County | 73090 | 31 | 370
71 | FL | St. Lucie County | 277789 | 31 | 208
71 | FL | Martin County | 146318 | 31 | 208
71 | FL | Indian River County | 138028 | 31 | 361
71 | FL | Okeechobee County | 39996 | 31 | 361
71 | FL | Hendry County | 39140 | 31 | 360
71 | FL | Glades County | 12884 | 31 | 361
72 | OH | Summit County | 541781 | 55 | 52
72 | OH | Stark County | 375586 | 55 | 87
72 | OH | Mahoning County | 238823 | 55 | 66
72 | OH | Trumbull County | 210312 | 55 | 66
72 | OH | Portage County | 161419 | 55 | 52
72 | PA | Mercer County | 116638 | 55 | 238
72 | OH | Columbiana County | 107841 | 55 | 595
72 | OH | Ashtabula County | 101497 | 55 | 587
72 | OH | Carroll County | 28836 | 55 | 87
73 | WV | Wetzel County | 16583 | 52 | 702
73 | OH | Monroe County | 14642 | 52 | 591
73 | WV | Tyler County | 9208 | 52 | 702
74 | NC | Mecklenburg County | 919628 | 23 | 61
74 | NC | Gaston County | 206086 | 23 | 61
74 | NC | Union County | 201292 | 23 | 61
75 | OH | Belmont County | 70400 | 52 | 178
75 | OH | Jefferson County | 69709 | 52 | 199
75 | WV | Ohio County | 44443 | 52 | 178
75 | WV | Marshall County | 33107 | 52 | 178
75 | WV | Hancock County | 30676 | 52 | 199
75 | WV | Brooke County | 24069 | 52 | 199
76 | FL | Orange County | 1145956 | 30 | 60
76 | FL | Brevard County | 543376 | 30 | 137
76 | FL | Seminole County | 422718 | 30 | 60
76 | FL | Osceola County | 268685 | 30 | 60
77 | SC | Richland County | 384504 | 24 | 95
77 | SC | Lexington County | 262391 | 24 | 95
78 | GA | Chatham County | 265128 | 28 | 155
78 | SC | Beaufort County | 162233 | 28 | 632
78 | GA | Effingham County | 52250 | 28 | 155
78 | GA | Bryan County | 30233 | 28 | 155
78 | SC | Jasper County | 24777 | 28 | 632
78 | SC | Hampton County | 21090 | 28 | 632
79 | GA | Burke County | 23316 | 27 | 378
79 | SC | Barnwell County | 22621 | 27 | 631
79 | GA | Jefferson County | 16930 | 27 | 378
79 | SC | Bamberg County | 15987 | 27 | 631
79 | GA | Wilkes County | 10593 | 27 | 374
79 | SC | Allendale County | 10419 | 27 | 631
79 | GA | Jenkins County | 8340 | 27 | 378
79 | GA | Lincoln County | 7996 | 27 | 374
79 | GA | Warren County | 5834 | 27 | 378
79 | GA | Glascock County | 3082 | 27 | 378
80 | SC | Newberry County | 37508 | 24 | 626
80 | SC | Fairfield County | 23956 | 24 | 627
80 | SC | Saluda County | 19875 | 24 | 626
81 | FL | Polk County | 602095 | 30 | 114
81 | FL | Highlands County | 98786 | 30 | 361
81 | FL | Hardee County | 27731 | 30 | 362
82 | FL | Lee County | 618754 | 32 | 164
82 | FL | Collier County | 321520 | 32 | 360
83 | NC | Catawba County | 154358 | 46 | 166
83 | NC | Burke County | 90912 | 46 | 166
83 | NC | McDowell County | 44996 | 46 | 568
83 | NC | Alexander County | 37198 | 46 | 166
84 | OH | Wayne County | 114520 | 55 | 590
84 | OH | Tuscarawas County | 92582 | 55 | 591
84 | OH | Ashland County | 53139 | 55 | 590
84 | OH | Holmes County | 42366 | 55 | 590
84 | OH | Harrison County | 15864 | 55 | 591
85 | OH | Cuyahoga County | 1280122 | 55 | 16
85 | OH | Lorain County | 301356 | 55 | 136
85 | OH | Lake County | 230041 | 55 | 16
85 | OH | Medina County | 172332 | 55 | 16
85 | OH | Geauga County | 93389 | 55 | 16
86 | GA | Bulloch County | 70217 | 28 | 378
86 | GA | Liberty County | 63453 | 28 | 382
86 | GA | Wayne County | 30099 | 28 | 382
86 | GA | Tattnall County | 25520 | 28 | 381
86 | GA | Screven County | 14593 | 28 | 378
86 | GA | Long County | 14464 | 28 | 382
86 | GA | Evans County | 11000 | 28 | 381
86 | GA | Candler County | 10998 | 28 | 378
87 | FL | Volusia County | 494593 | 30 | 146
87 | FL | Marion County | 331298 | 30 | 245
87 | FL | Lake County | 297052 | 30 | 363
87 | FL | Citrus County | 141236 | 30 | 363
87 | FL | Flagler County | 95696 | 30 | 364
87 | FL | Sumter County | 93420 | 30 | 363
88 | WV | Kanawha County | 193063 | 48 | 140
88 | WV | Cabell County | 96319 | 48 | 110
88 | WV | Wood County | 86956 | 48 | 200
88 | WV | Raleigh County | 78859 | 48 | 707
88 | OH | Lawrence County | 62450 | 48 | 110
88 | OH | Washington County | 61778 | 48 | 200
88 | WV | Putnam County | 55486 | 48 | 140
88 | KY | Boyd County | 49542 | 48 | 110
88 | WV | Fayette County | 46039 | 48 | 707
88 | WV | Wayne County | 42481 | 48 | 110
88 | KY | Greenup County | 36910 | 48 | 110
88 | WV | Logan County | 36743 | 48 | 706
88 | OH | Gallia County | 30934 | 48 | 593
88 | WV | Jackson County | 29211 | 48 | 701
88 | KY | Carter County | 27720 | 48 | 110
88 | WV | Mason County | 27324 | 48 | 701
88 | WV | Nicholas County | 26233 | 48 | 705
88 | WV | Boone County | 24629 | 48 | 706
88 | WV | Wyoming County | 23796 | 48 | 706
88 | OH | Meigs County | 23770 | 48 | 594
88 | WV | Lincoln County | 21720 | 48 | 706
88 | WV | Roane County | 14926 | 48 | 701
88 | WV | Braxton County | 14523 | 48 | 705
88 | WV | Summers County | 13927 | 48 | 707
88 | WV | Ritchie County | 10449 | 48 | 702
88 | WV | Clay County | 9386 | 48 | 705
88 | WV | Webster County | 9154 | 48 | 705
88 | WV | Gilmer County | 8693 | 48 | 702
88 | KY | Elliott County | 7852 | 48 | 451
88 | WV | Calhoun County | 7627 | 48 | 701
88 | WV | Pleasants County | 7605 | 48 | 702
88 | WV | Wirt County | 5717 | 48 | 200
89 | FL | Manatee County | 322833 | 33 | 211
89 | FL | Charlotte County | 159978 | 33 | 362
89 | FL | DeSoto County | 34862 | 33 | 362
90 | NC | Caldwell County | 83029 | 46 | 566
90 | NC | Watauga County | 51079 | 46 | 566
90 | NC | Ashe County | 27281 | 46 | 567
90 | TN | Johnson County | 18244 | 46 | 650
90 | NC | Yancey County | 17818 | 46 | 566
90 | NC | Avery County | 17797 | 46 | 566
90 | NC | Mitchell County | 15579 | 46 | 566
91 | GA | Richmond County | 200549 | 27 | 108
91 | SC | Aiken County | 160099 | 27 | 108
91 | GA | Columbia County | 124053 | 27 | 108
91 | SC | Edgefield County | 26985 | 27 | 626
91 | GA | McDuffie County | 21875 | 27 | 108
92 | FL | Duval County | 864263 | 29 | 51
92 | FL | Alachua County | 247336 | 29 | 192
92 | FL | Clay County | 190865 | 29 | 51
92 | FL | St. Johns County | 190039 | 29 | 51
92 | FL | Putnam County | 74364 | 29 | 364
92 | FL | Nassau County | 73314 | 29 | 51
92 | FL | Bradford County | 28520 | 29 | 192
92 | FL | Baker County | 27115 | 29 | 51
93 | SC | Greenwood County | 69661 | 41 | 626
93 | SC | Laurens County | 66537 | 41 | 626
93 | SC | Cherokee County | 55342 | 41 | 627
93 | SC | Union County | 28961 | 41 | 627
93 | SC | Abbeville County | 25417 | 41 | 626
93 | SC | McCormick County | 10233 | 41 | 626
94 | GA | Glynn County | 79626 | 29 | 382
94 | GA | Camden County | 50513 | 29 | 382
94 | GA | Coffee County | 42356 | 29 | 380
94 | GA | Ware County | 36312 | 29 | 381
94 | GA | Pierce County | 18758 | 29 | 381
94 | GA | Brantley County | 18411 | 29 | 381
94 | GA | McIntosh County | 14333 | 29 | 382
94 | GA | Charlton County | 12171 | 29 | 381
94 | GA | Bacon County | 11096 | 29 | 381
94 | GA | Atkinson County | 8375 | 29 | 384
94 | GA | Clinch County | 6798 | 29 | 384
95 | TN | Sullivan County | 156823 | 45 | 85
95 | TN | Washington County | 122979 | 45 | 85
95 | TN | Greene County | 68831 | 45 | 646
95 | TN | Carter County | 57424 | 45 | 85
95 | TN | Hawkins County | 56833 | 45 | 85
95 | VA | Washington County | 54876 | 45 | 85
95 | VA | Smyth County | 32208 | 45 | 682
95 | VA | Scott County | 23177 | 45 | 85
95 | TN | Unicoi County | 18313 | 45 | 85
95 | VA | Bristol city | 17835 | 45 | 85
96 | FL | Sarasota County | 379448 | 33 | 167
97 | FL | Hillsborough County | 1229226 | 34 | 22
97 | FL | Pinellas County | 916542 | 34 | 22
97 | FL | Pasco County | 464697 | 34 | 22
97 | FL | Hernando County | 172778 | 34 | 363
98 | KY | Pike County | 65024 | 47 | 451
98 | WV | Mercer County | 62264 | 47 | 707
98 | VA | Tazewell County | 45078 | 47 | 682
98 | VA | Wise County | 41452 | 47 | 681
98 | KY | Floyd County | 39451 | 47 | 451
98 | VA | Russell County | 28897 | 47 | 681
98 | KY | Perry County | 28712 | 47 | 452
98 | WV | Mingo County | 26839 | 47 | 706
98 | VA | Lee County | 25587 | 47 | 681
98 | KY | Letcher County | 24519 | 47 | 452
98 | VA | Buchanan County | 24098 | 47 | 681
98 | KY | Johnson County | 23356 | 47 | 451
98 | WV | McDowell County | 22113 | 47 | 706
98 | KY | Knott County | 16346 | 47 | 452
98 | VA | Dickenson County | 15903 | 47 | 681
98 | KY | Lawrence County | 15860 | 47 | 451
98 | KY | Estill County | 14672 | 47 | 452
98 | KY | Morgan County | 13923 | 47 | 451
98 | KY | Breathitt County | 13878 | 47 | 452
98 | KY | Jackson County | 13494 | 47 | 452
98 | KY | Magoffin County | 13333 | 47 | 451
98 | KY | Martin County | 12929 | 47 | 451
98 | KY | Powell County | 12613 | 47 | 452
98 | KY | Lee County | 7887 | 47 | 452
98 | KY | Wolfe County | 7355 | 47 | 452
98 | VA | Galax city | 7042 | 17 | 682
98 | VA | Bland County | 6824 | 47 | 682
98 | KY | Owsley County | 4755 | 47 | 452
98 | VA | Norton city | 3958 | 47 | 681
99 | SC | Greenville County | 451225 | 41 | 67
99 | SC | Spartanburg County | 284307 | 41 | 67
99 | SC | Anderson County | 187126 | 41 | 227
99 | SC | Pickens County | 119224 | 41 | 67
99 | SC | Oconee County | 74273 | 41 | 625
99 | NC | Polk County | 20510 | 41 | 568
100 | OH | Licking County | 166492 | 51 | 590
100 | OH | Muskingum County | 86074 | 51 | 591
100 | OH | Marion County | 66501 | 51 | 589
100 | OH | Knox County | 60921 | 51 | 590
100 | OH | Union County | 52300 | 51 | 588
100 | OH | Logan County | 45858 | 51 | 588
100 | OH | Guernsey County | 40087 | 51 | 591
100 | OH | Coshocton County | 36901 | 51 | 590
100 | OH | Morrow County | 34827 | 51 | 590
100 | OH | Noble County | 14645 | 51 | 591
101 | OH | Scioto County | 79499 | 51 | 593
101 | OH | Ross County | 78064 | 51 | 593
101 | OH | Athens County | 64757 | 51 | 594
101 | OH | Perry County | 36058 | 51 | 594
101 | OH | Jackson County | 33225 | 51 | 593
101 | OH | Hocking County | 29380 | 51 | 594
101 | OH | Fayette County | 29030 | 51 | 592
101 | OH | Pike County | 28709 | 51 | 593
101 | OH | Morgan County | 15054 | 51 | 594
101 | OH | Vinton County | 13435 | 51 | 594
102 | OH | Richland County | 124475 | 55 | 231
102 | OH | Erie County | 77079 | 55 | 586
102 | OH | Huron County | 59626 | 55 | 586
102 | OH | Crawford County | 43784 | 55 | 589
103 | FL | Columbia County | 67531 | 29 | 366
103 | FL | Suwannee County | 41551 | 29 | 366
103 | FL | Levy County | 40801 | 29 | 365
103 | FL | Gilchrist County | 16939 | 29 | 365
103 | FL | Dixie County | 16422 | 29 | 365
103 | FL | Union County | 15535 | 29 | 366
103 | FL | Hamilton County | 14799 | 29 | 366
103 | FL | Lafayette County | 8870 | 29 | 367
104 | OH | Franklin County | 1163414 | 51 | 31
104 | OH | Delaware County | 174214 | 51 | 31
104 | OH | Fairfield County | 146156 | 51 | 31
104 | OH | Pickaway County | 55698 | 51 | 31
104 | OH | Madison County | 43435 | 51 | 31
105 | NC | Buncombe County | 238318 | 42 | 183
105 | NC | Henderson County | 106740 | 42 | 568
105 | NC | Haywood County | 59036 | 42 | 565
105 | NC | Jackson County | 40271 | 42 | 565
105 | NC | Transylvania County | 33090 | 42 | 565
105 | NC | Madison County | 20764 | 42 | 183
105 | NC | Swain County | 13981 | 42 | 565
106 | GA | Laurens County | 48434 | 38 | 377
106 | GA | Baldwin County | 45720 | 38 | 377
106 | GA | Sumter County | 32819 | 38 | 379
106 | GA | Toombs County | 27223 | 38 | 381
106 | GA | Crisp County | 23439 | 38 | 379
106 | GA | Emanuel County | 22598 | 38 | 378
106 | GA | Dodge County | 21796 | 38 | 380
106 | GA | Washington County | 21187 | 38 | 377
106 | GA | Appling County | 18236 | 38 | 381
106 | GA | Telfair County | 16500 | 38 | 380
106 | GA | Jeff Davis County | 15068 | 38 | 380
106 | GA | Dooly County | 14918 | 38 | 379
106 | GA | Macon County | 14740 | 38 | 379
106 | GA | Bleckley County | 13063 | 38 | 380
106 | GA | Pulaski County | 12010 | 38 | 380
106 | GA | Johnson County | 9980 | 38 | 377
106 | GA | Wilkinson County | 9563 | 38 | 377
106 | GA | Hancock County | 9429 | 38 | 377
106 | GA | Wilcox County | 9255 | 38 | 380
106 | GA | Montgomery County | 9123 | 38 | 380
106 | GA | Wheeler County | 7421 | 38 | 380
106 | GA | Treutlen County | 6885 | 38 | 378
106 | GA | Schley County | 5010 | 38 | 379
107 | OH | Hancock County | 74782 | 56 | 589
107 | OH | Sandusky County | 60944 | 56 | 586
107 | OH | Seneca County | 56745 | 56 | 586
107 | OH | Hardin County | 32058 | 56 | 589
107 | OH | Wyandot County | 22615 | 56 | 589
108 | MI | Wayne County | 1820584 | 57 | 5
108 | MI | Oakland County | 1202362 | 57 | 5
108 | MI | Macomb County | 840978 | 57 | 5
108 | MI | Genesee County | 425790 | 57 | 68
108 | MI | Washtenaw County | 344791 | 57 | 5
108 | MI | Livingston County | 180967 | 57 | 5
108 | MI | St. Clair County | 163040 | 57 | 5
108 | MI | Lapeer County | 88319 | 57 | 5
108 | MI | Shiawassee County | 70648 | 57 | 68
109 | GA | Hall County | 179684 | 40 | 372
109 | GA | Clarke County | 116714 | 40 | 234
109 | GA | Barrow County | 69367 | 40 | 372
109 | GA | Jackson County | 60485 | 40 | 234
109 | GA | Habersham County | 43041 | 40 | 372
109 | GA | Oconee County | 32808 | 40 | 234
109 | GA | Lumpkin County | 29966 | 40 | 372
109 | GA | Madison County | 28120 | 40 | 234
109 | GA | White County | 27144 | 40 | 372
109 | GA | Stephens County | 26175 | 40 | 372
109 | GA | Hart County | 25213 | 40 | 374
109 | GA | Dawson County | 22330 | 40 | 372
109 | GA | Franklin County | 22084 | 40 | 372
109 | GA | Elbert County | 20166 | 40 | 374
109 | GA | Banks County | 18395 | 40 | 372
109 | GA | Morgan County | 17868 | 40 | 374
109 | GA | Rabun County | 16276 | 40 | 372
109 | GA | Greene County | 15994 | 40 | 374
109 | GA | Oglethorpe County | 14899 | 40 | 374
109 | GA | Jasper County | 13900 | 40 | 374
109 | GA | Taliaferro County | 1717 | 40 | 374
110 | OH | Lucas County | 441815 | 56 | 48
110 | OH | Wood County | 125488 | 56 | 48
110 | OH | Fulton County | 42698 | 56 | 48
110 | OH | Ottawa County | 41428 | 56 | 48
111 | OH | Brown County | 44846 | 49 | 592
111 | OH | Highland County | 43589 | 49 | 592
111 | OH | Clinton County | 42040 | 49 | 592
111 | OH | Adams County | 28550 | 49 | 592
111 | KY | Mason County | 17490 | 49 | 450
111 | KY | Lewis County | 13870 | 49 | 450
111 | KY | Bracken County | 8488 | 49 | 450
112 | GA | Lowndes County | 109233 | 37 | 384
112 | GA | Colquitt County | 45498 | 37 | 384
112 | GA | Tift County | 40118 | 37 | 384
112 | GA | Mitchell County | 23498 | 37 | 383
112 | GA | Worth County | 21679 | 37 | 384
112 | GA | Berrien County | 19286 | 37 | 384
112 | GA | Ben Hill County | 17634 | 37 | 380
112 | GA | Cook County | 17212 | 37 | 384
112 | GA | Brooks County | 16243 | 37 | 384
112 | GA | Lanier County | 10078 | 37 | 384
112 | GA | Irwin County | 9538 | 37 | 380
112 | GA | Turner County | 8930 | 37 | 380
112 | GA | Calhoun County | 6694 | 37 | 383
112 | GA | Echols County | 4034 | 37 | 384
112 | GA | Baker County | 3451 | 37 | 383
113 | OH | Clark County | 138333 | 50 | 180
113 | OH | Darke County | 52959 | 50 | 588
113 | OH | Shelby County | 49423 | 50 | 588
113 | OH | Champaign County | 40097 | 50 | 180
114 | MI | Saginaw County | 200169 | 57 | 94
114 | MI | Bay County | 107771 | 57 | 94
114 | MI | Midland County | 83629 | 57 | 94
114 | MI | Isabella County | 70311 | 57 | 478
114 | MI | Tuscola County | 55729 | 57 | 481
114 | MI | Sanilac County | 43114 | 57 | 481
114 | MI | Gratiot County | 42476 | 57 | 478
114 | MI | Huron County | 33118 | 57 | 481
114 | MI | Clare County | 30926 | 57 | 477
114 | MI | Iosco County | 25887 | 57 | 477
114 | MI | Gladwin County | 25692 | 57 | 477
114 | MI | Ogemaw County | 21699 | 57 | 477
114 | MI | Arenac County | 15899 | 57 | 477
114 | MI | Alcona County | 10942 | 57 | 475
115 | GA | Bibb County | 155547 | 38 | 138
115 | GA | Houston County | 139900 | 38 | 138
115 | GA | Jones County | 28669 | 38 | 138
115 | GA | Peach County | 27695 | 38 | 138
115 | GA | Monroe County | 26424 | 38 | 376
115 | GA | Putnam County | 21218 | 38 | 374
115 | GA | Crawford County | 12630 | 38 | 376
115 | GA | Twiggs County | 9023 | 38 | 138
115 | GA | Taylor County | 8906 | 38 | 376
116 | TN | Knox County | 432226 | 44 | 79
116 | TN | Blount County | 123010 | 44 | 79
116 | TN | Sevier County | 89889 | 44 | 646
116 | TN | Anderson County | 75129 | 44 | 79
116 | TN | Hamblen County | 62544 | 44 | 646
116 | TN | Roane County | 54181 | 44 | 645
116 | TN | Jefferson County | 51407 | 44 | 646
116 | TN | Loudon County | 48556 | 44 | 649
116 | TN | Campbell County | 40716 | 44 | 645
116 | TN | Cocke County | 35662 | 44 | 646
116 | TN | Grainger County | 22657 | 44 | 646
116 | TN | Scott County | 22228 | 44 | 645
116 | TN | Morgan County | 21987 | 44 | 645
116 | TN | Union County | 19109 | 44 | 79
116 | TN | Hancock County | 6819 | 44 | 645
117 | KY | Fayette County | 295803 | 47 | 116
117 | KY | Franklin County | 49285 | 47 | 449
117 | KY | Jessamine County | 48586 | 47 | 116
117 | KY | Scott County | 47173 | 47 | 116
117 | KY | Clark County | 35613 | 47 | 116
117 | KY | Montgomery County | 26499 | 47 | 450
117 | KY | Woodford County | 24939 | 47 | 116
117 | KY | Rowan County | 23333 | 47 | 450
117 | KY | Anderson County | 21421 | 47 | 446
117 | KY | Mercer County | 21331 | 47 | 446
117 | KY | Bourbon County | 19985 | 47 | 116
117 | KY | Harrison County | 18846 | 47 | 449
117 | KY | Fleming County | 14348 | 47 | 450
117 | KY | Bath County | 11591 | 47 | 450
117 | KY | Owen County | 10841 | 47 | 449
117 | KY | Nicholas County | 7135 | 47 | 450
117 | KY | Menifee County | 6306 | 47 | 450
117 | KY | Robertson County | 2282 | 47 | 450
118 | OH | Montgomery County | 535153 | 50 | 40
118 | OH | Greene County | 161573 | 50 | 40
118 | OH | Miami County | 102506 | 50 | 40
118 | OH | Preble County | 42270 | 50 | 40
119 | KY | Madison County | 82916 | 47 | 448
119 | KY | Pulaski County | 63063 | 47 | 448
119 | KY | Laurel County | 58849 | 47 | 448
119 | KY | Whitley County | 35637 | 47 | 453
119 | TN | Claiborne County | 32213 | 47 | 645
119 | KY | Knox County | 31883 | 47 | 453
119 | KY | Harlan County | 29278 | 47 | 453
119 | KY | Bell County | 28691 | 47 | 453
119 | KY | Boyle County | 28432 | 47 | 448
119 | KY | Lincoln County | 24742 | 47 | 448
119 | KY | Taylor County | 24512 | 47 | 446
119 | KY | Clay County | 21730 | 47 | 453
119 | KY | Wayne County | 20813 | 47 | 447
119 | KY | Adair County | 18656 | 47 | 447
119 | KY | McCreary County | 18306 | 47 | 447
119 | KY | Russell County | 17565 | 47 | 447
119 | KY | Rockcastle County | 17056 | 47 | 448
119 | KY | Garrard County | 16912 | 47 | 448
119 | KY | Casey County | 15955 | 47 | 448
119 | KY | Leslie County | 11310 | 47 | 453
119 | KY | Green County | 11258 | 47 | 446
119 | KY | Clinton County | 10272 | 47 | 447
120 | GA | Fulton County | 920581 | 40 | 17
120 | GA | Gwinnett County | 805321 | 40 | 17
120 | GA | DeKalb County | 691893 | 40 | 17
120 | GA | Cobb County | 688078 | 40 | 17
120 | GA | Clayton County | 259424 | 40 | 17
120 | GA | Cherokee County | 214346 | 40 | 17
120 | GA | Henry County | 203922 | 40 | 17
120 | GA | Forsyth County | 175511 | 40 | 17
120 | GA | Paulding County | 142324 | 40 | 17
120 | GA | Douglas County | 132403 | 40 | 17
120 | GA | Fayette County | 106567 | 40 | 17
120 | GA | Newton County | 99958 | 40 | 17
120 | GA | Rockdale County | 85215 | 40 | 17
120 | GA | Walton County | 83768 | 40 | 17
120 | GA | Butts County | 23655 | 40 | 17
121 | MI | Chippewa County | 38520 | 58 | 473
121 | MI | Emmet County | 32694 | 58 | 474
121 | MI | Alpena County | 29598 | 58 | 475
121 | MI | Cheboygan County | 26152 | 58 | 475
121 | MI | Charlevoix County | 25949 | 58 | 474
121 | MI | Roscommon County | 24449 | 58 | 477
121 | MI | Otsego County | 24164 | 58 | 475
121 | MI | Crawford County | 14074 | 58 | 475
121 | MI | Presque Isle County | 13376 | 58 | 475
121 | MI | Mackinac County | 11113 | 58 | 473
121 | MI | Montmorency County | 9765 | 58 | 475
121 | MI | Oscoda County | 8640 | 58 | 475
121 | MI | Luce County | 6631 | 58 | 473
122 | OH | Allen County | 106331 | 56 | 158
122 | OH | Auglaize County | 45949 | 56 | 158
122 | OH | Mercer County | 40814 | 56 | 588
122 | OH | Defiance County | 39037 | 56 | 585
122 | OH | Williams County | 37642 | 56 | 585
122 | OH | Putnam County | 34499 | 56 | 158
122 | OH | Van Wert County | 28744 | 56 | 158
122 | OH | Henry County | 28215 | 56 | 585
122 | OH | Paulding County | 19614 | 56 | 585
123 | MI | Ingham County | 280895 | 57 | 78
123 | MI | Jackson County | 160248 | 57 | 207
123 | MI | Monroe County | 152021 | 57 | 48
123 | MI | Eaton County | 107759 | 57 | 78
123 | MI | Lenawee County | 99892 | 57 | 480
123 | MI | Clinton County | 75382 | 57 | 78
123 | MI | Hillsdale County | 46688 | 57 | 480
124 | GA | Dougherty County | 94565 | 37 | 261
124 | GA | Lee County | 28298 | 37 | 261
124 | GA | Terrell County | 9315 | 37 | 379
124 | GA | Randolph County | 7719 | 37 | 379
124 | GA | Clay County | 3183 | 37 | 379
125 | FL | Leon County | 275487 | 35 | 168
125 | FL | Bay County | 168852 | 35 | 283
125 | FL | Jackson County | 49746 | 35 | 369
125 | FL | Gadsden County | 46389 | 35 | 168
125 | GA | Thomas County | 44720 | 35 | 383
125 | FL | Wakulla County | 30776 | 35 | 168
125 | GA | Decatur County | 27842 | 35 | 383
125 | GA | Grady County | 25011 | 35 | 383
125 | FL | Taylor County | 22570 | 35 | 367
125 | FL | Madison County | 19224 | 35 | 367
125 | FL | Gulf County | 15863 | 35 | 368
125 | FL | Jefferson County | 14761 | 35 | 367
125 | FL | Calhoun County | 14625 | 35 | 368
125 | FL | Franklin County | 11549 | 35 | 368
125 | GA | Early County | 11008 | 35 | 383
125 | GA | Seminole County | 8729 | 35 | 383
125 | FL | Liberty County | 8365 | 35 | 368
125 | GA | Miller County | 6125 | 35 | 383
126 | OH | Hamilton County | 802374 | 49 | 23
126 | OH | Butler County | 368130 | 49 | 145
126 | OH | Warren County | 212693 | 49 | 23
126 | OH | Clermont County | 197363 | 49 | 23
126 | KY | Kenton County | 159720 | 49 | 23
126 | KY | Boone County | 118811 | 49 | 23
126 | KY | Campbell County | 90336 | 49 | 23
126 | IN | Dearborn County | 50047 | 49 | 23
126 | IN | Ripley County | 28818 | 49 | 411
126 | KY | Grant County | 24662 | 49 | 449
126 | IN | Franklin County | 23087 | 49 | 408
126 | KY | Pendleton County | 14877 | 49 | 449
126 | IN | Switzerland County | 10613 | 49 | 411
126 | KY | Gallatin County | 8589 | 49 | 449
126 | IN | Ohio County | 6128 | 49 | 411
127 | TN | Hamilton County | 336463 | 43 | 88
127 | TN | Bradley County | 98963 | 43 | 649
127 | GA | Walker County | 68756 | 43 | 88
127 | GA | Catoosa County | 63942 | 43 | 88
127 | TN | McMinn County | 52266 | 43 | 649
127 | TN | Monroe County | 44519 | 43 | 649
127 | TN | Rhea County | 31809 | 43 | 649
127 | TN | Marion County | 28237 | 43 | 88
127 | TN | Polk County | 16825 | 43 | 649
127 | GA | Dade County | 16633 | 43 | 88
127 | TN | Sequatchie County | 14112 | 43 | 88
127 | TN | Bledsoe County | 12876 | 43 | 649
127 | TN | Meigs County | 11753 | 43 | 649
128 | IN | Allen County | 355329 | 66 | 96
128 | IN | Noble County | 47536 | 66 | 404
128 | IN | DeKalb County | 42223 | 66 | 96
128 | IN | Adams County | 34387 | 66 | 96
128 | IN | Steuben County | 34185 | 66 | 404
128 | IN | Whitley County | 33292 | 66 | 96
128 | IN | Wells County | 27636 | 66 | 96
129 | KY | Hardin County | 105543 | 70 | 446
129 | KY | Nelson County | 43437 | 70 | 446
129 | IN | Harrison County | 39364 | 70 | 410
129 | KY | Meade County | 28602 | 70 | 445
129 | IN | Washington County | 28262 | 70 | 410
129 | KY | Grayson County | 25746 | 70 | 445
129 | KY | Breckinridge County | 20059 | 70 | 445
129 | KY | Marion County | 19820 | 70 | 446
129 | KY | Spencer County | 17061 | 70 | 446
129 | KY | Larue County | 14193 | 70 | 446
129 | KY | Washington County | 11717 | 70 | 446
129 | IN | Crawford County | 10713 | 70 | 410
130 | GA | Coweta County | 127317 | 40 | 375
130 | GA | Carroll County | 110527 | 40 | 375
130 | GA | Whitfield County | 102599 | 40 | 371
130 | GA | Bartow County | 100157 | 40 | 373
130 | GA | Floyd County | 96317 | 40 | 373
130 | GA | Troup County | 67044 | 40 | 375
130 | GA | Spalding County | 64073 | 40 | 376
130 | GA | Gordon County | 55186 | 40 | 371
130 | GA | Polk County | 41475 | 40 | 373
130 | GA | Murray County | 39628 | 40 | 371
130 | AL | Chambers County | 34215 | 40 | 311
130 | NC | Macon County | 33922 | 40 | 565
130 | GA | Pickens County | 29431 | 40 | 371
130 | GA | Haralson County | 28780 | 40 | 375
130 | GA | Gilmer County | 28292 | 40 | 371
130 | NC | Cherokee County | 27444 | 40 | 565
130 | GA | Upson County | 27153 | 40 | 376
130 | GA | Chattooga County | 26015 | 40 | 373
130 | AL | Cherokee County | 25989 | 40 | 308
130 | GA | Fannin County | 23682 | 40 | 371
130 | AL | Randolph County | 22913 | 40 | 311
130 | GA | Meriwether County | 21992 | 40 | 376
130 | GA | Union County | 21356 | 40 | 371
130 | GA | Lamar County | 18317 | 40 | 376
130 | GA | Pike County | 17869 | 40 | 376
130 | AL | Cleburne County | 14972 | 40 | 311
130 | GA | Heard County | 11834 | 40 | 375
130 | NC | Clay County | 10587 | 40 | 565
130 | GA | Towns County | 10471 | 40 | 371
130 | NC | Graham County | 8861 | 40 | 565
130 | GA | Talbot County | 6865 | 40 | 376
131 | IN | Grant County | 70061 | 66 | 405
131 | IN | Huntington County | 37124 | 66 | 405
131 | IN | Wabash County | 32888 | 66 | 406
131 | IN | Jay County | 21253 | 66 | 405
131 | IN | Blackford County | 12766 | 66 | 405
132 | KY | Jefferson County | 741096 | 70 | 37
132 | IN | Clark County | 110232 | 70 | 37
132 | IN | Floyd County | 74578 | 70 | 37
132 | KY | Bullitt County | 74319 | 70 | 37
132 | KY | Oldham County | 60316 | 70 | 37
132 | KY | Shelby County | 42074 | 70 | 449
132 | IN | Jefferson County | 32428 | 70 | 411
132 | IN | Scott County | 24181 | 70 | 411
132 | KY | Henry County | 15416 | 70 | 449
132 | KY | Carroll County | 10811 | 70 | 449
132 | KY | Trimble County | 8809 | 70 | 449
133 | GA | Muscogee County | 189885 | 39 | 153
133 | AL | Lee County | 140247 | 39 | 314
133 | AL | Russell County | 52947 | 39 | 153
133 | AL | Tallapoosa County | 41616 | 39 | 311
133 | GA | Harris County | 32024 | 39 | 376
133 | AL | Macon County | 21452 | 39 | 314
133 | AL | Clay County | 13932 | 39 | 311
133 | AL | Coosa County | 11539 | 39 | 311
133 | GA | Chattahoochee County | 11267 | 39 | 153
133 | GA | Marion County | 8742 | 39 | 379
133 | GA | Stewart County | 6058 | 39 | 379
133 | GA | Webster County | 2799 | 39 | 379
134 | IN | Monroe County | 137974 | 67 | 282
134 | IN | Bartholomew County | 76794 | 67 | 410
134 | IN | Wayne County | 68917 | 67 | 408
134 | IN | Henry County | 49462 | 67 | 408
134 | IN | Lawrence County | 46134 | 67 | 410
134 | IN | Jackson County | 42376 | 67 | 410
134 | IN | Jennings County | 28525 | 67 | 411
134 | IN | Randolph County | 26171 | 67 | 408
134 | IN | Decatur County | 25740 | 67 | 411
134 | IN | Fayette County | 24277 | 67 | 408
134 | IN | Orange County | 19840 | 67 | 410
134 | IN | Rush County | 17392 | 67 | 408
134 | IN | Brown County | 15242 | 67 | 410
134 | IN | Union County | 7516 | 67 | 408
135 | MI | Kalamazoo County | 250331 | 62 | 132
135 | MI | Calhoun County | 136146 | 62 | 177
135 | MI | Allegan County | 111408 | 62 | 479
135 | MI | Van Buren County | 76258 | 62 | 132
135 | MI | Barry County | 59173 | 62 | 177
135 | MI | Branch County | 45248 | 62 | 480
136 | MI | Muskegon County | 172188 | 62 | 181
136 | MI | Ionia County | 63905 | 62 | 78
136 | MI | Montcalm County | 63342 | 62 | 478
136 | MI | Newaygo County | 48460 | 62 | 478
136 | MI | Mecosta County | 42798 | 62 | 478
136 | MI | Oceana County | 26570 | 62 | 181
137 | MI | Grand Traverse County | 86986 | 61 | 474
137 | MI | Wexford County | 32735 | 61 | 476
137 | MI | Mason County | 28705 | 61 | 476
137 | MI | Manistee County | 24733 | 61 | 476
137 | MI | Antrim County | 23580 | 61 | 474
137 | MI | Osceola County | 23528 | 61 | 476
137 | MI | Leelanau County | 21708 | 61 | 476
137 | MI | Benzie County | 17525 | 61 | 476
137 | MI | Kalkaska County | 17153 | 61 | 474
137 | MI | Missaukee County | 14849 | 61 | 476
137 | MI | Lake County | 11539 | 61 | 476
138 | TN | Maury County | 80956 | 71 | 651
138 | TN | Coffee County | 52796 | 71 | 644
138 | TN | Bedford County | 45058 | 71 | 648
138 | TN | Franklin County | 41052 | 71 | 648
138 | TN | Warren County | 39839 | 71 | 644
138 | TN | Marshall County | 30617 | 71 | 648
138 | TN | Giles County | 29485 | 71 | 648
138 | TN | White County | 25841 | 71 | 644
138 | TN | Smith County | 19166 | 71 | 644
138 | TN | DeKalb County | 18723 | 71 | 644
138 | TN | Cannon County | 13801 | 71 | 644
138 | TN | Grundy County | 13703 | 71 | 644
138 | TN | Moore County | 6362 | 71 | 648
138 | TN | Van Buren County | 5548 | 71 | 644
139 | MI | Kent County | 602622 | 62 | 64
139 | MI | Ottawa County | 263801 | 62 | 64
140 | IN | Madison County | 131636 | 67 | 217
140 | IN | Delaware County | 117671 | 67 | 236
140 | IN | Howard County | 82752 | 67 | 271
140 | IN | Tipton County | 15936 | 67 | 271
141 | AL | Houston County | 101547 | 36 | 246
141 | AL | Dale County | 50251 | 36 | 246
141 | AL | Coffee County | 49948 | 36 | 313
141 | AL | Covington County | 37765 | 36 | 313
141 | AL | Barbour County | 27457 | 36 | 314
141 | AL | Geneva County | 26790 | 36 | 313
141 | FL | Washington County | 24896 | 36 | 369
141 | FL | Holmes County | 19927 | 36 | 369
141 | AL | Henry County | 17302 | 36 | 314
141 | GA | Quitman County | 2513 | 36 | 379
142 | IN | Elkhart County | 197559 | 65 | 223
142 | IN | Kosciusko County | 77358 | 65 | 404
142 | IN | LaGrange County | 37128 | 65 | 404
143 | KY | Warren County | 113792 | 71 | 445
143 | TN | Putnam County | 72321 | 71 | 645
143 | TN | Cumberland County | 56053 | 71 | 645
143 | KY | Barren County | 42173 | 71 | 447
143 | KY | Logan County | 26835 | 71 | 445
143 | TN | Macon County | 22248 | 71 | 645
143 | TN | Overton County | 22083 | 71 | 645
143 | KY | Allen County | 19956 | 71 | 445
143 | KY | Hart County | 18199 | 71 | 447
143 | TN | Fentress County | 17959 | 71 | 645
143 | KY | Simpson County | 17327 | 71 | 445
143 | KY | Butler County | 12690 | 71 | 445
143 | KY | Todd County | 12460 | 71 | 445
143 | KY | Edmonson County | 12161 | 71 | 445
143 | TN | Jackson County | 11638 | 71 | 645
143 | KY | Monroe County | 10963 | 71 | 447
143 | KY | Metcalfe County | 10099 | 71 | 447
143 | TN | Trousdale County | 7870 | 71 | 645
143 | TN | Clay County | 7861 | 71 | 645
143 | KY | Cumberland County | 6856 | 71 | 447
143 | TN | Pickett County | 5077 | 71 | 645
144 | IN | St. Joseph County | 266931 | 65 | 129
144 | MI | Berrien County | 156813 | 65 | 193
144 | MI | St. Joseph County | 61295 | 65 | 480
144 | MI | Cass County | 52293 | 65 | 480
144 | IN | Marshall County | 47051 | 65 | 129
144 | IN | Starke County | 23363 | 65 | 403
144 | IN | Fulton County | 20836 | 65 | 406
144 | IN | Pulaski County | 13402 | 65 | 403
145 | IN | Marion County | 903393 | 67 | 28
145 | IN | Hamilton County | 274569 | 67 | 28
145 | IN | Hendricks County | 145448 | 67 | 28
145 | IN | Johnson County | 139654 | 67 | 28
145 | IN | Hancock County | 70002 | 67 | 28
145 | IN | Morgan County | 68894 | 67 | 28
145 | IN | Boone County | 56640 | 67 | 28
145 | IN | Shelby County | 44436 | 67 | 28
146 | AL | Montgomery County | 229363 | 79 | 139
146 | AL | Elmore County | 79303 | 79 | 139
146 | AL | Autauga County | 54571 | 79 | 139
147 | AL | Dallas County | 43820 | 79 | 310
147 | AL | Pike County | 32899 | 79 | 313
147 | AL | Butler County | 20947 | 79 | 313
147 | AL | Crenshaw County | 13906 | 79 | 313
147 | AL | Lowndes County | 11299 | 79 | 310
147 | AL | Bullock County | 10914 | 79 | 314
147 | AL | Perry County | 10591 | 79 | 310
148 | AL | Jefferson County | 658466 | 78 | 41
148 | AL | Shelby County | 195085 | 78 | 41
148 | AL | Calhoun County | 118572 | 78 | 249
148 | AL | St. Clair County | 83593 | 78 | 41
148 | AL | Talladega County | 82291 | 78 | 311
148 | AL | Walker County | 67023 | 78 | 41
149 | FL | Escambia County | 297619 | 81 | 127
149 | FL | Okaloosa County | 180822 | 81 | 265
149 | FL | Santa Rosa County | 151372 | 81 | 127
149 | FL | Walton County | 55043 | 81 | 369
150 | AL | Madison County | 334811 | 74 | 120
150 | AL | Morgan County | 119490 | 74 | 307
150 | AL | Etowah County | 104430 | 74 | 272
150 | AL | Marshall County | 93019 | 74 | 120
150 | AL | Lauderdale County | 92709 | 74 | 226
150 | AL | Limestone County | 82782 | 74 | 120
150 | AL | DeKalb County | 71109 | 74 | 308
150 | AL | Colbert County | 54428 | 74 | 226
150 | AL | Jackson County | 53227 | 74 | 308
150 | AL | Lawrence County | 34339 | 74 | 307
150 | TN | Lincoln County | 33361 | 74 | 648
150 | AL | Franklin County | 31704 | 74 | 307
151 | TN | Davidson County | 626681 | 71 | 46
151 | TN | Rutherford County | 262604 | 71 | 46
151 | TN | Williamson County | 183182 | 71 | 46
151 | TN | Montgomery County | 172331 | 71 | 209
151 | TN | Sumner County | 160645 | 71 | 46
151 | TN | Wilson County | 113993 | 71 | 46
151 | KY | Christian County | 73955 | 71 | 209
151 | TN | Robertson County | 66283 | 71 | 46
151 | TN | Dickson County | 49666 | 71 | 46
151 | TN | Cheatham County | 39105 | 71 | 46
152 | IN | Tippecanoe County | 172780 | 67 | 247
152 | IN | Vigo County | 107848 | 67 | 185
152 | IN | Cass County | 38966 | 67 | 406
152 | IN | Montgomery County | 38124 | 67 | 407
152 | IN | Putnam County | 37963 | 67 | 407
152 | IN | Miami County | 36903 | 67 | 406
152 | IN | Clinton County | 33224 | 67 | 406
152 | IN | Greene County | 33165 | 67 | 409
152 | IN | Clay County | 26890 | 67 | 185
152 | IN | White County | 24643 | 67 | 403
152 | IN | Owen County | 21575 | 67 | 409
152 | IN | Sullivan County | 21475 | 67 | 185
152 | IN | Carroll County | 20155 | 67 | 406
152 | IN | Parke County | 17339 | 67 | 407
152 | IN | Fountain County | 17240 | 67 | 407
152 | IL | Clark County | 16335 | 67 | 400
152 | IN | Vermillion County | 16212 | 67 | 185
152 | IN | Benton County | 8854 | 67 | 407
152 | IN | Warren County | 8508 | 67 | 407
153 | IN | Lake County | 496005 | 64 | 54
153 | IN | Porter County | 164343 | 64 | 54
153 | IN | LaPorte County | 111467 | 64 | 403
153 | IN | Jasper County | 33478 | 64 | 403
153 | IN | Newton County | 14244 | 64 | 403
154 | IN | Dubois County | 41889 | 69 | 409
154 | IN | Knox County | 38440 | 69 | 409
154 | IN | Daviess County | 31648 | 69 | 409
154 | IN | Spencer County | 20952 | 69 | 409
154 | IL | Crawford County | 19817 | 69 | 400
154 | IN | Perry County | 19338 | 69 | 409
154 | IL | Lawrence County | 16833 | 69 | 402
154 | IL | Wayne County | 16760 | 69 | 402
154 | IL | Richland County | 16233 | 69 | 402
154 | IL | White County | 14665 | 69 | 402
154 | IN | Pike County | 12845 | 69 | 409
154 | IL | Wabash County | 11947 | 69 | 402
154 | IN | Martin County | 10334 | 69 | 409
154 | IL | Edwards County | 6721 | 69 | 402
155 | AL | Tuscaloosa County | 194656 | 78 | 222
155 | AL | Cullman County | 80406 | 78 | 307
155 | AL | Blount County | 57322 | 78 | 307
155 | AL | Chilton County | 43643 | 78 | 310
155 | AL | Marion County | 30776 | 78 | 307
155 | AL | Winston County | 24484 | 78 | 307
155 | AL | Bibb County | 22915 | 78 | 310
155 | AL | Fayette County | 17241 | 78 | 309
155 | AL | Hale County | 15760 | 78 | 309
156 | IN | Vanderburgh County | 179703 | 69 | 119
156 | KY | Daviess County | 96656 | 69 | 293
156 | IN | Warrick County | 59689 | 69 | 119
156 | KY | Hopkins County | 46920 | 69 | 444
156 | KY | Henderson County | 46250 | 69 | 119
156 | IN | Gibson County | 33503 | 69 | 119
156 | KY | Muhlenberg County | 31499 | 69 | 445
156 | IN | Posey County | 25910 | 69 | 119
156 | KY | Ohio County | 23842 | 69 | 445
156 | KY | Union County | 15007 | 69 | 444
156 | KY | Webster County | 13621 | 69 | 444
156 | KY | McLean County | 9531 | 69 | 445
156 | KY | Crittenden County | 9315 | 69 | 444
156 | KY | Hancock County | 8565 | 69 | 445
157 | AL | Escambia County | 38319 | 80 | 312
157 | AL | Clarke County | 25833 | 80 | 312
157 | AL | Monroe County | 23068 | 80 | 312
157 | AL | Washington County | 17581 | 80 | 312
157 | AL | Conecuh County | 13228 | 80 | 312
157 | AL | Wilcox County | 11670 | 80 | 310
158 | TN | Lawrence County | 41869 | 71 | 647
158 | TN | Hickman County | 24690 | 71 | 647
158 | TN | Humphreys County | 18538 | 71 | 643
158 | TN | Wayne County | 17021 | 71 | 647
158 | KY | Trigg County | 14339 | 71 | 444
158 | TN | Stewart County | 13324 | 71 | 643
158 | TN | Lewis County | 12161 | 71 | 647
158 | TN | Houston County | 8426 | 71 | 643
158 | TN | Perry County | 7915 | 71 | 647
159 | WI | Manitowoc County | 81442 | 63 | 717
160 | AL | Mobile County | 412992 | 80 | 83
160 | AL | Baldwin County | 182265 | 80 | 83
161 | WI | Sheboygan County | 115507 | 63 | 277
162 | AL | Marengo County | 21027 | 77 | 309
162 | AL | Choctaw County | 13859 | 77 | 309
162 | AL | Sumter County | 13763 | 77 | 309
162 | AL | Greene County | 9045 | 77 | 309
163 | WI | Racine County | 195408 | 63 | 189
164 | IL | Kendall County | 114736 | 64 | 303
164 | IL | Kankakee County | 113449 | 64 | 273
164 | IL | Grundy County | 50063 | 64 | 304
164 | IL | Iroquois County | 29718 | 64 | 395
165 | AL | Pickens County | 19746 | 75 | 309
165 | AL | Lamar County | 14564 | 75 | 309
166 | IL | Cook County | 5194675 | 64 | 3
166 | IL | DuPage County | 916924 | 64 | 3
166 | IL | Lake County | 703462 | 64 | 3
166 | IL | Will County | 677560 | 64 | 3
166 | IL | Kane County | 515269 | 64 | 3
166 | IL | McHenry County | 308760 | 64 | 3
166 | WI | Kenosha County | 166426 | 64 | 244
167 | WI | Milwaukee County | 947735 | 63 | 21
167 | WI | Waukesha County | 389891 | 63 | 21
167 | WI | Washington County | 131887 | 63 | 21
167 | WI | Ozaukee County | 86395 | 63 | 21
168 | WI | Brown County | 248007 | 59 | 186
168 | MI | Marquette County | 67077 | 59 | 472
168 | WI | Shawano County | 41949 | 59 | 711
168 | WI | Marinette County | 41749 | 59 | 711
168 | WI | Oconto County | 37660 | 59 | 711
168 | MI | Delta County | 37069 | 59 | 473
168 | MI | Houghton County | 36628 | 59 | 472
168 | WI | Door County | 27785 | 59 | 717
168 | MI | Dickinson County | 26168 | 59 | 472
168 | MI | Menominee County | 24029 | 59 | 472
168 | WI | Kewaunee County | 20574 | 59 | 717
168 | MI | Gogebic County | 16427 | 59 | 472
168 | MI | Iron County | 11817 | 59 | 472
168 | MI | Alger County | 9601 | 59 | 473
168 | MI | Baraga County | 8860 | 59 | 472
168 | MI | Schoolcraft County | 8485 | 59 | 473
168 | MI | Ontonagon County | 6780 | 59 | 472
168 | WI | Iron County | 5916 | 59 | 709
168 | WI | Florence County | 4423 | 59 | 710
168 | WI | Menominee County | 4232 | 59 | 711
168 | MI | Keweenaw County | 2156 | 59 | 472
169 | TN | McNairy County | 26075 | 75 | 647
169 | TN | Hardin County | 26026 | 75 | 647
170 | IL | Champaign County | 201081 | 68 | 196
170 | IL | Macon County | 110768 | 68 | 230
170 | IL | Vermilion County | 81625 | 68 | 400
170 | IL | Coles County | 53873 | 68 | 400
170 | IL | Effingham County | 34242 | 68 | 399
170 | IL | Shelby County | 22363 | 68 | 399
170 | IL | Fayette County | 22140 | 68 | 399
170 | IL | Douglas County | 19980 | 68 | 400
170 | IL | Edgar County | 18576 | 68 | 400
170 | IL | Piatt County | 16729 | 68 | 398
170 | IL | Moultrie County | 14846 | 68 | 398
170 | IL | Ford County | 14081 | 68 | 395
170 | IL | Clay County | 13815 | 68 | 402
170 | IL | Cumberland County | 11048 | 68 | 400
170 | IL | Jasper County | 9698 | 68 | 400
171 | KY | McCracken County | 65565 | 72 | 443
171 | KY | Calloway County | 37191 | 72 | 443
171 | KY | Graves County | 37121 | 72 | 443
171 | KY | Marshall County | 31448 | 72 | 443
171 | IL | Massac County | 15429 | 72 | 401
171 | KY | Caldwell County | 12984 | 72 | 444
171 | KY | Livingston County | 9519 | 72 | 444
171 | KY | Lyon County | 8314 | 72 | 444
171 | KY | Ballard County | 8249 | 72 | 443
171 | KY | Carlisle County | 5104 | 72 | 443
172 | WI | Walworth County | 102228 | 63 | 716
172 | WI | Fond du Lac County | 101633 | 63 | 716
172 | WI | Dodge County | 88759 | 63 | 716
172 | WI | Jefferson County | 83686 | 63 | 716
172 | WI | Green Lake County | 19051 | 63 | 714
173 | WI | Outagamie County | 176695 | 60 | 125
173 | WI | Winnebago County | 166994 | 60 | 125
173 | WI | Waupaca County | 52410 | 60 | 714
173 | WI | Calumet County | 48971 | 60 | 125
173 | WI | Waushara County | 24496 | 60 | 714
174 | TN | Madison County | 98294 | 73 | 647
174 | TN | Gibson County | 49683 | 73 | 643
174 | TN | Fayette County | 38413 | 73 | 647
174 | TN | Dyer County | 38335 | 73 | 643
174 | TN | Weakley County | 35021 | 73 | 643
174 | TN | Henry County | 32330 | 73 | 643
174 | TN | Obion County | 31807 | 73 | 643
174 | TN | Carroll County | 28522 | 73 | 643
174 | TN | Lauderdale County | 27815 | 73 | 643
174 | TN | Henderson County | 27769 | 73 | 647
174 | TN | Hardeman County | 27253 | 73 | 647
174 | TN | Haywood County | 18787 | 73 | 647
174 | TN | Chester County | 17131 | 73 | 647
174 | TN | Benton County | 16489 | 73 | 643
174 | TN | Crockett County | 14586 | 73 | 643
174 | TN | Decatur County | 11757 | 73 | 647
174 | TN | Lake County | 7832 | 73 | 643
174 | KY | Fulton County | 6813 | 73 | 443
174 | KY | Hickman County | 4902 | 73 | 443
175 | MS | Harrison County | 187105 | 82 | 173
175 | MS | Jackson County | 139668 | 82 | 252
175 | MS | Hancock County | 43929 | 82 | 173
175 | MS | George County | 22578 | 82 | 503
175 | MS | Stone County | 17786 | 82 | 173
176 | IL | LaSalle County | 113924 | 64 | 395
176 | IL | Livingston County | 38950 | 64 | 395
176 | IL | Bureau County | 34978 | 64 | 395
176 | IL | Putnam County | 6006 | 64 | 395
177 | IL | Winnebago County | 295266 | 64 | 131
177 | WI | Rock County | 160331 | 64 | 216
177 | IL | Boone County | 54165 | 64 | 131
178 | MS | Lee County | 82910 | 75 | 494
178 | MS | Lowndes County | 59779 | 75 | 498
178 | MS | Oktibbeha County | 47671 | 75 | 498
178 | MS | Alcorn County | 37057 | 75 | 494
178 | MS | Monroe County | 36989 | 75 | 496
178 | MS | Pontotoc County | 29957 | 75 | 494
178 | MS | Union County | 27134 | 75 | 494
178 | MS | Prentiss County | 25276 | 75 | 494
178 | MS | Itawamba County | 23401 | 75 | 494
178 | MS | Tippah County | 22232 | 75 | 494
178 | MS | Grenada County | 21906 | 75 | 496
178 | MS | Clay County | 20634 | 75 | 496
178 | MS | Tishomingo County | 19593 | 75 | 494
178 | MS | Winston County | 19198 | 75 | 498
178 | MS | Chickasaw County | 17392 | 75 | 496
178 | MS | Calhoun County | 14962 | 75 | 496
178 | MS | Noxubee County | 11545 | 75 | 498
178 | MS | Montgomery County | 10925 | 75 | 498
178 | MS | Webster County | 10253 | 75 | 498
178 | MS | Choctaw County | 8547 | 75 | 498
179 | WI | Dane County | 488073 | 104 | 113
179 | WI | Columbia County | 56833 | 104 | 716
180 | IL | McLean County | 169572 | 64 | 250
180 | IL | DeKalb County | 105160 | 64 | 394
180 | IL | Ogle County | 53497 | 64 | 394
180 | IL | Stephenson County | 47711 | 64 | 394
180 | IL | Lee County | 36031 | 64 | 394
180 | IL | De Witt County | 16561 | 64 | 398
180 | IL | Carroll County | 15387 | 64 | 394
181 | IL | Peoria County | 186494 | 101 | 103
181 | IL | Tazewell County | 135394 | 101 | 103
181 | IL | Woodford County | 38664 | 101 | 103
182 | IL | Sangamon County | 197465 | 97 | 176
182 | IL | Christian County | 34800 | 97 | 399
182 | IL | Logan County | 30305 | 97 | 398
182 | IL | Montgomery County | 30104 | 97 | 399
182 | IL | Menard County | 12705 | 97 | 176
183 | IL | Williamson County | 66357 | 96 | 401
183 | MO | St. Francois County | 65359 | 96 | 516
183 | IL | Jackson County | 60218 | 96 | 401
183 | IL | Franklin County | 39561 | 96 | 401
183 | IL | Jefferson County | 38827 | 96 | 401
183 | IL | Randolph County | 33476 | 96 | 401
183 | MO | Washington County | 25195 | 96 | 516
183 | IL | Saline County | 24913 | 96 | 402
183 | IL | Perry County | 22350 | 96 | 401
183 | MO | Ste. Genevieve County | 18145 | 96 | 516
183 | IL | Union County | 17808 | 96 | 401
183 | IL | Washington County | 14716 | 96 | 401
183 | IL | Johnson County | 12582 | 96 | 401
183 | IL | Hamilton County | 8457 | 96 | 402
183 | IL | Alexander County | 8238 | 96 | 401
183 | IL | Pulaski County | 6161 | 96 | 401
183 | IL | Gallatin County | 5589 | 96 | 402
183 | IL | Pope County | 4470 | 96 | 402
183 | IL | Hardin County | 4320 | 96 | 402
184 | MS | Pearl River County | 55834 | 83 | 503
185 | WI | Marathon County | 134063 | 108 | 263
185 | WI | Wood County | 74749 | 108 | 714
185 | WI | Portage County | 70019 | 108 | 714
186 | MS | DeSoto County | 161252 | 73 | 36
186 | MS | Lafayette County | 47351 | 73 | 493
186 | MS | Marshall County | 37144 | 73 | 493
186 | MS | Panola County | 34707 | 73 | 493
186 | MS | Tate County | 28886 | 73 | 493
186 | MS | Yalobusha County | 12678 | 73 | 496
186 | MS | Tunica County | 10778 | 73 | 493
186 | MS | Benton County | 8729 | 73 | 494
186 | MS | Quitman County | 8223 | 73 | 493
187 | TN | Shelby County | 927644 | 73 | 36
187 | TN | Tipton County | 61081 | 73 | 36
187 | AR | Crittenden County | 50902 | 73 | 36
188 | WI | Oneida County | 35998 | 108 | 710
188 | WI | Clark County | 34690 | 108 | 713
188 | WI | Lincoln County | 28743 | 108 | 710
188 | WI | Vilas County | 21430 | 108 | 710
188 | WI | Taylor County | 20689 | 108 | 710
188 | WI | Langlade County | 19977 | 108 | 710
188 | WI | Ashland County | 16157 | 108 | 709
188 | WI | Bayfield County | 15014 | 108 | 709
188 | WI | Price County | 14159 | 108 | 709
188 | WI | Forest County | 9304 | 108 | 710
189 | MS | Lauderdale County | 80261 | 77 | 499
189 | MS | Forrest County | 74934 | 77 | 503
189 | MS | Jones County | 67761 | 77 | 502
189 | MS | Lamar County | 55658 | 77 | 503
189 | MS | Pike County | 40404 | 77 | 500
189 | MS | Lincoln County | 34869 | 77 | 500
189 | MS | Adams County | 32297 | 77 | 500
189 | MS | Neshoba County | 29676 | 77 | 499
189 | MS | Copiah County | 29449 | 77 | 501
189 | MS | Scott County | 28264 | 77 | 499
189 | MS | Simpson County | 27503 | 77 | 501
189 | MS | Marion County | 27088 | 77 | 501
189 | MS | Leake County | 23805 | 77 | 499
189 | MS | Newton County | 21720 | 77 | 499
189 | MS | Wayne County | 20747 | 77 | 502
189 | MS | Covington County | 19568 | 77 | 502
189 | MS | Jasper County | 17062 | 77 | 502
189 | MS | Clarke County | 16732 | 77 | 502
189 | MS | Smith County | 16491 | 77 | 502
189 | MS | Walthall County | 15443 | 77 | 501
189 | MS | Greene County | 14400 | 77 | 503
189 | MS | Amite County | 13131 | 77 | 500
189 | MS | Lawrence County | 12929 | 77 | 501
189 | MS | Jefferson Davis County | 12487 | 77 | 501
189 | MS | Perry County | 12250 | 77 | 503
189 | MS | Kemper County | 10456 | 77 | 499
189 | MS | Claiborne County | 9604 | 77 | 500
189 | MS | Franklin County | 8118 | 77 | 500
189 | MS | Jefferson County | 7726 | 77 | 500
190 | MO | St. Louis County | 998954 | 96 | 11
190 | MO | St. Charles County | 360485 | 96 | 11
190 | MO | St. Louis city | 319294 | 96 | 11
190 | IL | St. Clair County | 270056 | 96 | 11
190 | IL | Madison County | 269282 | 96 | 11
190 | MO | Jefferson County | 218733 | 96 | 11
190 | MO | Franklin County | 101492 | 96 | 11
190 | IL | Marion County | 39437 | 96 | 399
190 | IL | Clinton County | 37762 | 96 | 11
190 | IL | Monroe County | 32957 | 96 | 11
190 | IL | Bond County | 17768 | 96 | 399
191 | LA | Jefferson Parish | 432552 | 83 | 29
191 | LA | Orleans Parish | 343829 | 83 | 29
191 | LA | St. Tammany Parish | 233740 | 83 | 29
191 | LA | Tangipahoa Parish | 121097 | 83 | 460
191 | LA | Terrebonne Parish | 111860 | 83 | 184
191 | LA | Lafourche Parish | 96318 | 83 | 184
191 | LA | St. Charles Parish | 52780 | 83 | 461
191 | LA | Washington Parish | 47168 | 83 | 460
191 | LA | St. John the Baptist Parish | 45924 | 83 | 461
191 | LA | St. Bernard Parish | 35897 | 83 | 29
191 | LA | Plaquemines Parish | 23042 | 83 | 462
191 | LA | St. James Parish | 22102 | 83 | 461
192 | MO | Cape Girardeau County | 75674 | 96 | 521
192 | MO | Butler County | 42794 | 96 | 522
192 | MO | Scott County | 39191 | 96 | 522
192 | MO | Stoddard County | 29968 | 96 | 522
192 | MO | Perry County | 18971 | 96 | 521
192 | MO | New Madrid County | 18956 | 96 | 522
192 | MO | Mississippi County | 14358 | 96 | 522
192 | MO | Ripley County | 14100 | 96 | 520
192 | MO | Wayne County | 13521 | 96 | 521
192 | MO | Bollinger County | 12363 | 96 | 521
192 | MO | Madison County | 12226 | 96 | 521
192 | MO | Iron County | 10630 | 96 | 520
192 | MO | Reynolds County | 6696 | 96 | 520
192 | MO | Carter County | 6265 | 96 | 520
193 | MS | Hinds County | 245285 | 77 | 106
193 | MS | Rankin County | 141617 | 77 | 106
193 | MS | Madison County | 95203 | 77 | 106
193 | MS | Warren County | 48773 | 77 | 497
193 | MS | Yazoo County | 28065 | 77 | 497
193 | MS | Attala County | 19564 | 77 | 498
193 | MS | Holmes County | 19198 | 77 | 495
194 | IL | Knox County | 52919 | 101 | 396
194 | IL | Fulton County | 37069 | 101 | 396
194 | IL | McDonough County | 32612 | 101 | 396
194 | IL | Warren County | 17707 | 101 | 396
194 | IL | Mason County | 14666 | 101 | 398
194 | IL | Marshall County | 12640 | 101 | 395
194 | IL | Stark County | 5994 | 101 | 395
195 | WI | Sauk County | 61976 | 104 | 715
195 | WI | Richland County | 18021 | 104 | 715
195 | WI | Crawford County | 16644 | 104 | 715
196 | MS | Washington County | 51137 | 76 | 497
196 | MS | Bolivar County | 34145 | 76 | 495
196 | MS | Leflore County | 32317 | 76 | 495
196 | MS | Sunflower County | 29450 | 76 | 495
196 | MS | Coahoma County | 26151 | 76 | 493
196 | MS | Tallahatchie County | 15378 | 76 | 495
196 | MS | Carroll County | 10597 | 76 | 495
196 | MS | Humphreys County | 9375 | 76 | 497
196 | MS | Sharkey County | 4916 | 76 | 497
196 | MS | Issaquena County | 1406 | 76 | 497
197 | IA | Scott County | 165224 | 102 | 98
197 | IL | Rock Island County | 147546 | 102 | 98
197 | IL | Henry County | 50486 | 102 | 98
198 | AR | Craighead County | 96443 | 95 | 327
198 | AR | Mississippi County | 46480 | 95 | 327
198 | AR | Greene County | 42090 | 95 | 327
198 | MO | Dunklin County | 31953 | 95 | 522
198 | AR | Poinsett County | 24583 | 95 | 327
198 | MO | Pemiscot County | 18296 | 95 | 522
198 | AR | Randolph County | 17969 | 95 | 326
198 | AR | Lawrence County | 17415 | 95 | 326
198 | AR | Clay County | 16083 | 95 | 327
199 | IA | Dubuque County | 93653 | 104 | 286
199 | WI | Grant County | 51208 | 104 | 715
199 | WI | Green County | 36842 | 104 | 715
199 | WI | Juneau County | 26664 | 104 | 714
199 | WI | Iowa County | 23687 | 104 | 715
199 | IL | Jo Daviess County | 22678 | 104 | 394
199 | WI | Adams County | 20875 | 104 | 714
199 | IA | Jackson County | 19848 | 104 | 416
199 | IA | Clayton County | 18129 | 104 | 423
199 | IA | Delaware County | 17764 | 104 | 423
199 | WI | Lafayette County | 16836 | 104 | 715
199 | WI | Marquette County | 15404 | 104 | 714
199 | IA | Allamakee County | 14330 | 104 | 423
200 | AR | St. Francis County | 28258 | 73 | 328
200 | AR | Phillips County | 21757 | 73 | 328
200 | AR | Cross County | 17870 | 73 | 328
200 | AR | Lee County | 10424 | 73 | 328
201 | IL | Adams County | 67103 | 97 | 397
201 | IL | Morgan County | 35547 | 97 | 397
201 | MO | Marion County | 28781 | 97 | 509
201 | IL | Pike County | 16430 | 97 | 397
201 | IL | Greene County | 13886 | 97 | 397
201 | IL | Cass County | 13642 | 97 | 397
201 | MO | Lewis County | 10211 | 97 | 506
201 | MO | Ralls County | 10167 | 97 | 509
201 | IL | Schuyler County | 7544 | 97 | 396
201 | IL | Brown County | 6937 | 97 | 397
201 | IL | Scott County | 5355 | 97 | 397
202 | WI | Monroe County | 44673 | 105 | 713
202 | WI | Trempealeau County | 28816 | 105 | 713
202 | WI | Jackson County | 20449 | 105 | 713
203 | WI | La Crosse County | 114638 | 105 | 290
203 | WI | Vernon County | 29773 | 105 | 715
203 | MN | Houston County | 19027 | 105 | 492
204 | LA | East Baton Rouge Parish | 440171 | 84 | 80
204 | LA | Livingston Parish | 128026 | 84 | 80
204 | LA | Ascension Parish | 107215 | 84 | 80
204 | LA | Iberville Parish | 33387 | 84 | 459
204 | LA | West Baton Rouge Parish | 23788 | 84 | 80
204 | LA | Assumption Parish | 23421 | 84 | 459
205 | IL | Whiteside County | 58498 | 102 | 394
205 | IA | Clinton County | 49116 | 102 | 416
205 | IA | Muscatine County | 42745 | 102 | 415
205 | IA | Cedar County | 18499 | 102 | 416
205 | IL | Mercer County | 16434 | 102 | 396
205 | IA | Louisa County | 11387 | 102 | 415
206 | MO | Lincoln County | 52566 | 96 | 511
206 | IL | Macoupin County | 47765 | 96 | 397
206 | MO | Warren County | 32513 | 96 | 511
206 | MO | Crawford County | 24696 | 96 | 515
206 | IL | Jersey County | 22985 | 96 | 305
206 | MO | Pike County | 18516 | 96 | 509
206 | MO | Gasconade County | 15222 | 96 | 514
206 | MO | Montgomery County | 12236 | 96 | 511
206 | IL | Calhoun County | 5089 | 96 | 397
207 | LA | Pointe Coupee Parish | 22802 | 84 | 458
207 | LA | East Feliciana Parish | 20267 | 84 | 460
207 | LA | West Feliciana Parish | 15625 | 84 | 460
207 | LA | St. Helena Parish | 11203 | 84 | 460
208 | MS | Wilkinson County | 9878 | 84 | 500
209 | LA | Concordia Parish | 20822 | 77 | 457
209 | LA | Madison Parish | 12093 | 77 | 455
209 | LA | Catahoula Parish | 10407 | 77 | 457
209 | LA | Tensas Parish | 5252 | 77 | 455
210 | IA | Linn County | 211226 | 103 | 195
210 | IA | Johnson County | 130882 | 103 | 296
210 | IA | Benton County | 26076 | 103 | 422
210 | IA | Washington County | 21704 | 103 | 417
210 | IA | Jones County | 20638 | 103 | 416
210 | IA | Iowa County | 16355 | 103 | 417
211 | WI | Eau Claire County | 98736 | 107 | 232
211 | WI | Chippewa County | 62415 | 107 | 232
211 | MN | Goodhue County | 46183 | 107 | 492
211 | WI | Barron County | 45870 | 107 | 708
211 | WI | Polk County | 44205 | 107 | 708
211 | WI | Dunn County | 43857 | 107 | 712
211 | WI | Pierce County | 41019 | 107 | 712
211 | MN | Pine County | 29750 | 107 | 487
211 | WI | Sawyer County | 16557 | 107 | 709
211 | WI | Washburn County | 15911 | 107 | 708
211 | WI | Burnett County | 15457 | 107 | 708
211 | WI | Rusk County | 14755 | 107 | 709
211 | WI | Pepin County | 7469 | 107 | 712
212 | LA | Lafayette Parish | 221578 | 85 | 174
212 | LA | St. Landry Parish | 83384 | 85 | 458
212 | LA | Iberia Parish | 73240 | 85 | 459
212 | LA | Acadia Parish | 61773 | 85 | 458
212 | LA | Vermilion Parish | 57999 | 85 | 458
212 | LA | St. Mary Parish | 54650 | 85 | 459
212 | LA | St. Martin Parish | 52160 | 85 | 174
212 | LA | Evangeline Parish | 33984 | 85 | 458
213 | LA | Ouachita Parish | 153720 | 89 | 219
213 | LA | Lincoln Parish | 46735 | 89 | 454
213 | LA | Morehouse Parish | 27979 | 89 | 455
213 | LA | Union Parish | 22721 | 89 | 454
213 | LA | Franklin Parish | 20767 | 89 | 455
213 | LA | Richland Parish | 20725 | 89 | 455
213 | LA | Jackson Parish | 16274 | 89 | 454
213 | LA | West Carroll Parish | 11604 | 89 | 455
213 | LA | Caldwell Parish | 10132 | 89 | 457
213 | LA | East Carroll Parish | 7759 | 89 | 455
214 | MN | St. Louis County | 200226 | 109 | 141
214 | MN | Itasca County | 45058 | 109 | 484
214 | WI | Douglas County | 44159 | 109 | 141
214 | MN | Carlton County | 35386 | 109 | 487
214 | MN | Koochiching County | 13311 | 109 | 484
214 | MN | Lake County | 10866 | 109 | 485
214 | MN | Cook County | 5176 | 109 | 485
215 | AR | Pulaski County | 382748 | 90 | 92
215 | AR | Faulkner County | 113237 | 90 | 92
215 | AR | Saline County | 107118 | 90 | 92
215 | AR | Jefferson County | 77435 | 90 | 291
215 | AR | White County | 77076 | 90 | 329
215 | AR | Lonoke County | 68356 | 90 | 92
215 | AR | Independence County | 36647 | 90 | 326
215 | AR | Cleburne County | 25970 | 90 | 329
215 | AR | Arkansas County | 19019 | 90 | 328
215 | AR | Jackson County | 17997 | 90 | 326
215 | AR | Sharp County | 17264 | 90 | 326
215 | AR | Prairie County | 8715 | 90 | 329
215 | AR | Monroe County | 8149 | 90 | 328
215 | AR | Woodruff County | 7260 | 90 | 329
216 | MN | Olmsted County | 144248 | 106 | 288
216 | MN | Winona County | 51461 | 106 | 492
216 | MN | Mower County | 39163 | 106 | 492
216 | MN | Wabasha County | 21676 | 106 | 492
216 | IA | Winneshiek County | 21056 | 106 | 423
216 | MN | Fillmore County | 20866 | 106 | 492
216 | MN | Dodge County | 20087 | 106 | 492
216 | WI | Buffalo County | 13587 | 106 | 712
216 | IA | Howard County | 9566 | 106 | 424
217 | MO | Callaway County | 44332 | 98 | 511
217 | MO | Audrain County | 25529 | 98 | 509
217 | MO | Randolph County | 25414 | 98 | 508
217 | MO | Cooper County | 17601 | 98 | 510
217 | MO | Howard County | 10144 | 98 | 510
217 | MO | Monroe County | 8840 | 98 | 509
217 | MO | Shelby County | 6373 | 98 | 508
218 | MO | Boone County | 162642 | 98 | 278
218 | MO | Cole County | 75990 | 98 | 514
218 | MO | Moniteau County | 15607 | 98 | 514
218 | MO | Osage County | 13878 | 98 | 514
219 | MO | Pulaski County | 52274 | 94 | 515
219 | MO | Phelps County | 45156 | 94 | 515
219 | MO | Camden County | 44002 | 94 | 513
219 | MO | Webster County | 36202 | 94 | 519
219 | MO | Laclede County | 35571 | 94 | 519
219 | MO | Polk County | 31137 | 94 | 513
219 | MO | Texas County | 26008 | 94 | 519
219 | MO | Miller County | 24748 | 94 | 514
219 | MO | Morgan County | 20565 | 94 | 514
219 | MO | Wright County | 18815 | 94 | 519
219 | MO | Dallas County | 16777 | 94 | 513
219 | MO | Dent County | 15657 | 94 | 515
219 | MO | Oregon County | 10881 | 94 | 520
219 | MO | Hickory County | 9627 | 94 | 513
219 | MO | Maries County | 9176 | 94 | 515
219 | MO | Shannon County | 8441 | 94 | 520
220 | AR | Garland County | 96024 | 90 | 333
220 | AR | Union County | 41639 | 90 | 335
220 | AR | Hot Spring County | 32923 | 90 | 333
220 | AR | Ouachita County | 26120 | 90 | 335
220 | AR | Clark County | 22995 | 90 | 333
220 | AR | Hempstead County | 22609 | 90 | 334
220 | AR | Ashley County | 21853 | 90 | 335
220 | AR | Drew County | 18509 | 90 | 335
220 | AR | Grant County | 17853 | 90 | 333
220 | AR | Lincoln County | 14134 | 90 | 335
220 | AR | Howard County | 13789 | 90 | 332
220 | AR | Desha County | 13008 | 90 | 335
220 | AR | Chicot County | 11800 | 90 | 335
220 | AR | Bradley County | 11508 | 90 | 335
220 | AR | Pike County | 11291 | 90 | 332
220 | AR | Montgomery County | 9487 | 90 | 332
220 | AR | Nevada County | 8997 | 90 | 334
220 | AR | Cleveland County | 8689 | 90 | 335
220 | AR | Dallas County | 8116 | 90 | 333
220 | AR | Calhoun County | 5368 | 90 | 335
221 | AR | Pope County | 61754 | 90 | 330
221 | AR | Baxter County | 41513 | 90 | 325
221 | AR | Boone County | 36903 | 90 | 324
221 | AR | Carroll County | 27446 | 90 | 324
221 | AR | Johnson County | 25540 | 90 | 331
221 | AR | Yell County | 22185 | 90 | 330
221 | AR | Conway County | 21273 | 90 | 330
221 | AR | Van Buren County | 17295 | 90 | 330
221 | AR | Marion County | 16653 | 90 | 325
221 | AR | Izard County | 13696 | 90 | 325
221 | AR | Stone County | 12394 | 90 | 325
221 | AR | Fulton County | 12245 | 90 | 325
221 | AR | Perry County | 10445 | 90 | 330
221 | AR | Newton County | 8330 | 90 | 324
221 | AR | Searcy County | 8195 | 90 | 325
222 | LA | Rapides Parish | 131613 | 86 | 205
222 | LA | Vernon Parish | 52334 | 86 | 456
222 | LA | Avoyelles Parish | 42073 | 86 | 458
222 | LA | Beauregard Parish | 35654 | 86 | 458
222 | LA | Allen Parish | 25764 | 86 | 458
222 | LA | Grant Parish | 22309 | 86 | 205
222 | LA | La Salle Parish | 14890 | 86 | 457
223 | MO | Greene County | 275174 | 94 | 163
223 | MO | Christian County | 77422 | 94 | 163
223 | MO | Taney County | 51675 | 94 | 518
223 | MO | Howell County | 40400 | 94 | 518
223 | MO | Lawrence County | 38634 | 94 | 517
223 | MO | Barry County | 35597 | 94 | 517
223 | MO | Stone County | 32202 | 94 | 518
223 | MO | Douglas County | 13684 | 94 | 518
223 | MO | Ozark County | 9723 | 94 | 518
223 | MO | Dade County | 7883 | 94 | 517
224 | LA | Natchitoches Parish | 39566 | 88 | 456
224 | LA | De Soto Parish | 26656 | 88 | 456
224 | LA | Sabine Parish | 24233 | 88 | 456
224 | LA | Winn Parish | 15313 | 88 | 457
224 | LA | Red River Parish | 9091 | 88 | 456
225 | MN | Hennepin County | 1152425 | 107 | 15
225 | MN | Ramsey County | 508640 | 107 | 15
225 | MN | Dakota County | 398552 | 107 | 15
225 | MN | Anoka County | 330844 | 107 | 15
225 | MN | Washington County | 238136 | 107 | 15
225 | MN | Scott County | 129928 | 107 | 15
225 | MN | Wright County | 124700 | 107 | 15
225 | MN | Carver County | 91042 | 107 | 15
225 | WI | St. Croix County | 84345 | 107 | 15
225 | MN | Chisago County | 53887 | 107 | 15
226 | LA | Calcasieu Parish | 192768 | 86 | 197
226 | LA | Jefferson Davis Parish | 31594 | 86 | 458
226 | LA | Cameron Parish | 6839 | 86 | 458
227 | LA | Caddo Parish | 254969 | 88 | 100
227 | LA | Bossier Parish | 116979 | 88 | 100
227 | LA | Webster Parish | 41207 | 88 | 100
227 | LA | Claiborne Parish | 17195 | 88 | 454
227 | LA | Bienville Parish | 14353 | 88 | 454
228 | AR | Columbia County | 24552 | 88 | 334
228 | AR | Lafayette County | 7645 | 88 | 334
229 | IA | Black Hawk County | 131090 | 100 | 201
229 | IA | Story County | 89542 | 100 | 421
229 | IA | Cerro Gordo County | 44151 | 100 | 425
229 | IA | Marshall County | 40648 | 100 | 422
229 | IA | Des Moines County | 40325 | 100 | 415
229 | IA | Webster County | 38013 | 100 | 421
229 | IA | Jasper County | 36842 | 100 | 417
229 | IA | Lee County | 35862 | 100 | 415
229 | IA | Marion County | 33309 | 100 | 417
229 | IA | Boone County | 26306 | 100 | 421
229 | IA | Bremer County | 24276 | 100 | 201
229 | IA | Mahaska County | 22381 | 100 | 417
229 | IA | Buchanan County | 20958 | 100 | 423
229 | IA | Fayette County | 20880 | 100 | 423
229 | IA | Carroll County | 20816 | 100 | 420
229 | IA | Buena Vista County | 20260 | 100 | 426
229 | IA | Henry County | 20145 | 100 | 415
229 | IL | Hancock County | 19104 | 100 | 396
229 | IA | Poweshiek County | 18914 | 100 | 417
229 | IA | Tama County | 17767 | 100 | 422
229 | IA | Hardin County | 17534 | 100 | 422
229 | IA | Crawford County | 17096 | 100 | 419
229 | IA | Clay County | 16667 | 100 | 426
229 | IA | Dickinson County | 16667 | 100 | 426
229 | IA | Floyd County | 16303 | 100 | 424
229 | IA | Hamilton County | 15673 | 100 | 421
229 | IA | Kossuth County | 15543 | 100 | 425
229 | IA | Butler County | 14867 | 100 | 424
229 | IA | Wright County | 13229 | 100 | 421
229 | IA | Grundy County | 12453 | 100 | 422
229 | IA | Chickasaw County | 12439 | 100 | 424
229 | IA | Hancock County | 11341 | 100 | 425
229 | IA | Winnebago County | 10866 | 100 | 425
229 | IA | Mitchell County | 10776 | 100 | 424
229 | IA | Franklin County | 10680 | 100 | 425
229 | IA | Keokuk County | 10511 | 100 | 417
229 | IA | Sac County | 10350 | 100 | 420
229 | IA | Emmet County | 10302 | 100 | 426
229 | IA | Humboldt County | 9815 | 100 | 421
229 | IA | Calhoun County | 9670 | 100 | 420
229 | IA | Palo Alto County | 9421 | 100 | 426
229 | IA | Greene County | 9336 | 100 | 420
229 | IA | Worth County | 7598 | 100 | 425
229 | IL | Henderson County | 7331 | 100 | 396
229 | IA | Pocahontas County | 7310 | 100 | 426
229 | MO | Clark County | 7139 | 100 | 506
229 | MO | Scotland County | 4843 | 100 | 506
230 | MO | Johnson County | 52595 | 99 | 510
230 | MO | Pettis County | 42201 | 99 | 510
230 | MO | Lafayette County | 33381 | 99 | 510
230 | MO | Adair County | 25607 | 99 | 506
230 | MO | Saline County | 23370 | 99 | 510
230 | MO | Nodaway County | 23370 | 99 | 504
230 | MO | Clinton County | 20743 | 99 | 507
230 | MO | Macon County | 15566 | 99 | 508
230 | MO | Livingston County | 15195 | 99 | 507
230 | MO | DeKalb County | 12892 | 99 | 507
230 | MO | Linn County | 12761 | 99 | 508
230 | MO | Grundy County | 10261 | 99 | 505
230 | MO | Caldwell County | 9424 | 99 | 507
230 | MO | Carroll County | 9295 | 99 | 507
230 | MO | Harrison County | 8957 | 99 | 505
230 | MO | Daviess County | 8433 | 99 | 507
230 | MO | Chariton County | 7831 | 99 | 508
230 | MO | Gentry County | 6738 | 99 | 504
230 | MO | Sullivan County | 6714 | 99 | 505
230 | MO | Putnam County | 4979 | 99 | 505
230 | MO | Holt County | 4912 | 99 | 504
230 | MO | Schuyler County | 4431 | 99 | 506
230 | MO | Knox County | 4131 | 99 | 506
230 | MO | Mercer County | 3785 | 99 | 505
230 | MO | Worth County | 2171 | 99 | 504
231 | IA | Polk County | 430640 | 100 | 102
231 | IA | Dallas County | 66135 | 100 | 102
231 | IA | Warren County | 46225 | 100 | 102
232 | TX | Jefferson County | 252273 | 87 | 101
232 | TX | Orange County | 81837 | 87 | 101
232 | TX | Hardin County | 54635 | 87 | 101
232 | TX | Jasper County | 35710 | 87 | 668
232 | TX | Tyler County | 21766 | 87 | 668
232 | TX | Newton County | 14445 | 87 | 668
233 | AR | Benton County | 221339 | 92 | 182
233 | AR | Washington County | 203065 | 92 | 182
233 | OK | Delaware County | 41487 | 92 | 599
233 | MO | McDonald County | 23083 | 92 | 517
233 | OK | Adair County | 22683 | 92 | 599
233 | AR | Madison County | 15717 | 92 | 324
234 | IA | Wapello County | 35625 | 100 | 414
234 | IA | Jefferson County | 16843 | 100 | 414
234 | IA | Madison County | 15679 | 100 | 418
234 | IA | Appanoose County | 12887 | 100 | 414
234 | IA | Union County | 12534 | 100 | 413
234 | IA | Guthrie County | 10954 | 100 | 418
234 | IA | Clarke County | 9286 | 100 | 413
234 | IA | Lucas County | 8898 | 100 | 413
234 | IA | Davis County | 8753 | 100 | 414
234 | IA | Decatur County | 8457 | 100 | 413
234 | IA | Monroe County | 7970 | 100 | 414
234 | IA | Adair County | 7682 | 100 | 418
234 | IA | Van Buren County | 7570 | 100 | 414
234 | IA | Wayne County | 6403 | 100 | 413
234 | IA | Ringgold County | 5131 | 100 | 413
235 | MO | Jackson County | 674158 | 99 | 24
235 | KS | Johnson County | 544179 | 99 | 24
235 | MO | Clay County | 221939 | 99 | 24
235 | KS | Wyandotte County | 157505 | 99 | 24
235 | MO | Cass County | 99478 | 99 | 24
235 | MO | Platte County | 89322 | 99 | 24
235 | KS | Miami County | 32787 | 99 | 437
235 | KS | Franklin County | 25992 | 99 | 437
235 | MO | Ray County | 23494 | 99 | 24
235 | MO | Henry County | 22272 | 99 | 512
235 | MO | Vernon County | 21159 | 99 | 512
235 | MO | Benton County | 19056 | 99 | 513
235 | MO | Bates County | 17049 | 99 | 512
235 | KS | Bourbon County | 15173 | 99 | 437
235 | MO | Cedar County | 13982 | 99 | 512
235 | MO | St. Clair County | 9805 | 99 | 512
235 | KS | Linn County | 9656 | 99 | 437
235 | KS | Anderson County | 8102 | 99 | 437
236 | AR | Sebastian County | 125744 | 91 | 165
236 | AR | Crawford County | 61948 | 91 | 165
236 | OK | Le Flore County | 50384 | 91 | 165
236 | OK | Sequoyah County | 42391 | 91 | 165
236 | AR | Logan County | 22353 | 91 | 331
236 | AR | Franklin County | 18125 | 91 | 331
236 | OK | Haskell County | 12769 | 91 | 605
236 | AR | Scott County | 11233 | 91 | 331
236 | OK | Latimer County | 11154 | 91 | 605
237 | MO | Jasper County | 117404 | 93 | 239
237 | MO | Newton County | 58114 | 93 | 239
237 | KS | Crawford County | 39134 | 93 | 442
237 | OK | Ottawa County | 31848 | 93 | 599
237 | KS | Cherokee County | 21603 | 93 | 442
237 | MO | Barton County | 12402 | 93 | 517
238 | MN | Stearns County | 150642 | 107 | 198
238 | MN | Sherburne County | 88499 | 107 | 198
238 | MN | Rice County | 64142 | 107 | 491
238 | MN | Blue Earth County | 64013 | 107 | 491
238 | MN | Crow Wing County | 62500 | 107 | 487
238 | MN | Beltrami County | 44442 | 107 | 483
238 | MN | Kandiyohi County | 42239 | 107 | 488
238 | MN | Benton County | 38451 | 107 | 198
238 | MN | Isanti County | 37816 | 107 | 487
238 | MN | McLeod County | 36651 | 107 | 488
238 | MN | Steele County | 36576 | 107 | 491
238 | MN | Douglas County | 36009 | 107 | 486
238 | MN | Morrison County | 33198 | 107 | 487
238 | MN | Nicollet County | 32727 | 107 | 488
238 | MN | Freeborn County | 31255 | 107 | 491
238 | MN | Cass County | 28567 | 107 | 487
238 | MN | Le Sueur County | 27703 | 107 | 491
238 | MN | Mille Lacs County | 26097 | 107 | 487
238 | MN | Brown County | 25893 | 107 | 490
238 | MN | Lyon County | 25857 | 107 | 489
238 | MN | Todd County | 24895 | 107 | 486
238 | MN | Meeker County | 23300 | 107 | 488
238 | MN | Nobles County | 21378 | 107 | 490
238 | MN | Martin County | 20840 | 107 | 490
238 | MN | Hubbard County | 20428 | 107 | 487
238 | MN | Waseca County | 19136 | 107 | 491
238 | MN | Kanabec County | 16239 | 107 | 487
238 | MN | Aitkin County | 16202 | 107 | 487
238 | MN | Redwood County | 16059 | 107 | 489
238 | MN | Renville County | 15730 | 107 | 488
238 | MN | Sibley County | 15226 | 107 | 488
238 | MN | Faribault County | 14553 | 107 | 491
238 | MN | Wadena County | 13843 | 107 | 486
238 | MN | Chippewa County | 12441 | 107 | 488
238 | MN | Cottonwood County | 11687 | 107 | 490
238 | MN | Watonwan County | 11211 | 107 | 490
238 | MN | Pope County | 10995 | 107 | 486
238 | MN | Yellow Medicine County | 10438 | 107 | 489
238 | MN | Jackson County | 10266 | 107 | 490
238 | MN | Swift County | 9783 | 107 | 486
238 | MN | Stevens County | 9726 | 107 | 486
238 | MN | Murray County | 8725 | 107 | 490
238 | MN | Clearwater County | 8695 | 107 | 483
238 | MN | Lac qui Parle County | 7259 | 107 | 489
238 | IA | Osceola County | 6462 | 107 | 427
238 | MN | Grant County | 6018 | 107 | 486
238 | MN | Lincoln County | 5896 | 107 | 489
239 | KS | Douglas County | 110826 | 99 | 301
239 | MO | Buchanan County | 89201 | 99 | 275
239 | KS | Leavenworth County | 76227 | 99 | 432
239 | MO | Andrew County | 17291 | 99 | 275
239 | KS | Atchison County | 16924 | 99 | 432
239 | KS | Doniphan County | 7945 | 99 | 432
240 | IA | Page County | 15932 | 118 | 412
240 | IA | Mills County | 15059 | 118 | 412
240 | IA | Cass County | 13956 | 118 | 418
240 | IA | Montgomery County | 10740 | 118 | 412
240 | IA | Fremont County | 7441 | 118 | 412
240 | IA | Taylor County | 6317 | 118 | 412
240 | IA | Audubon County | 6119 | 118 | 418
240 | MO | Atchison County | 5685 | 118 | 504
240 | IA | Adams County | 4029 | 118 | 412
241 | TX | Angelina County | 86771 | 131 | 662
241 | TX | Walker County | 67861 | 131 | 668
241 | TX | Nacogdoches County | 64524 | 131 | 662
241 | TX | Polk County | 45413 | 131 | 668
241 | TX | San Jacinto County | 26384 | 131 | 668
241 | TX | Shelby County | 25448 | 131 | 662
241 | TX | Houston County | 23732 | 131 | 668
241 | TX | Limestone County | 23384 | 131 | 661
241 | TX | Freestone County | 19816 | 131 | 661
241 | TX | Leon County | 16801 | 131 | 661
241 | TX | Robertson County | 16622 | 131 | 661
241 | TX | Trinity County | 14585 | 131 | 668
241 | TX | Madison County | 13664 | 131 | 668
241 | TX | Sabine County | 10834 | 131 | 662
241 | TX | San Augustine County | 8865 | 131 | 662
242 | TX | Harris County | 4092459 | 131 | 10
242 | TX | Fort Bend County | 585375 | 131 | 10
242 | TX | Montgomery County | 455746 | 131 | 10
242 | TX | Brazoria County | 313166 | 131 | 10
242 | TX | Galveston County | 291309 | 131 | 170
242 | TX | Liberty County | 75643 | 131 | 10
242 | TX | Waller County | 43205 | 131 | 10
242 | TX | Chambers County | 35096 | 131 | 672
243 | TX | Grayson County | 120877 | 127 | 292
243 | TX | Bowie County | 92565 | 127 | 240
243 | TX | Hunt County | 86129 | 127 | 658
243 | TX | Lamar County | 49793 | 127 | 658
243 | AR | Miller County | 43462 | 127 | 240
243 | OK | Bryan County | 42416 | 127 | 604
243 | TX | Wood County | 41964 | 127 | 658
243 | TX | Upshur County | 39309 | 127 | 658
243 | TX | Hopkins County | 35161 | 127 | 658
243 | TX | Fannin County | 33915 | 127 | 658
243 | OK | McCurtain County | 33151 | 127 | 605
243 | TX | Titus County | 32334 | 127 | 658
243 | TX | Cass County | 30464 | 127 | 658
243 | AR | Polk County | 20662 | 127 | 332
243 | AR | Sevier County | 17058 | 127 | 332
243 | OK | Choctaw County | 15205 | 127 | 605
243 | AR | Little River County | 13171 | 127 | 240
243 | TX | Morris County | 12934 | 127 | 658
243 | TX | Red River County | 12860 | 127 | 658
243 | TX | Camp County | 12401 | 127 | 658
243 | OK | Pushmataha County | 11572 | 127 | 605
243 | TX | Rains County | 10914 | 127 | 658
243 | TX | Franklin County | 10605 | 127 | 658
243 | TX | Marion County | 10546 | 127 | 658
243 | TX | Delta County | 5231 | 127 | 658
244 | TX | Smith County | 209714 | 127 | 237
244 | TX | Gregg County | 121730 | 127 | 206
244 | TX | Henderson County | 78532 | 127 | 661
244 | TX | Harrison County | 65631 | 127 | 206
244 | TX | Anderson County | 58458 | 127 | 661
244 | TX | Rusk County | 53330 | 127 | 662
244 | TX | Van Zandt County | 52579 | 127 | 661
244 | TX | Cherokee County | 50845 | 127 | 662
244 | TX | Navarro County | 47735 | 127 | 661
244 | TX | Panola County | 23796 | 127 | 662
245 | NE | Douglas County | 517110 | 118 | 65
245 | NE | Sarpy County | 158840 | 118 | 65
245 | IA | Pottawattamie County | 93158 | 118 | 65
245 | IA | Harrison County | 14928 | 118 | 419
245 | IA | Shelby County | 12167 | 118 | 419
246 | OK | Tulsa County | 603403 | 124 | 57
246 | OK | Rogers County | 86905 | 124 | 57
246 | OK | Payne County | 77350 | 124 | 598
246 | OK | Wagoner County | 73085 | 124 | 57
246 | OK | Muskogee County | 70990 | 124 | 601
246 | OK | Creek County | 69967 | 124 | 57
246 | OK | Washington County | 50976 | 124 | 599
246 | OK | Osage County | 47472 | 124 | 57
246 | OK | Cherokee County | 46987 | 124 | 599
246 | OK | Kay County | 46562 | 124 | 598
246 | OK | Pittsburg County | 45837 | 124 | 601
246 | OK | Mayes County | 41259 | 124 | 57
246 | OK | Okmulgee County | 40069 | 124 | 601
246 | KS | Montgomery County | 35471 | 124 | 442
246 | KS | Labette County | 21607 | 124 | 442
246 | OK | McIntosh County | 20252 | 124 | 601
246 | OK | Pawnee County | 16577 | 124 | 598
246 | KS | Neosho County | 16512 | 124 | 442
246 | OK | Craig County | 15029 | 124 | 599
246 | KS | Allen County | 13371 | 124 | 437
246 | OK | Noble County | 11561 | 124 | 598
246 | OK | Nowata County | 10536 | 124 | 599
246 | KS | Wilson County | 9409 | 124 | 442
246 | KS | Chautauqua County | 3669 | 124 | 442
246 | KS | Woodson County | 3309 | 124 | 437
247 | IA | Woodbury County | 102172 | 117 | 253
247 | IA | Sioux County | 33704 | 117 | 427
247 | IA | Plymouth County | 24986 | 117 | 427
247 | NE | Dakota County | 21006 | 117 | 253
247 | SD | Union County | 14399 | 117 | 642
247 | IA | O'Brien County | 14398 | 117 | 427
247 | IA | Cherokee County | 12072 | 117 | 427
247 | IA | Monona County | 9243 | 117 | 419
247 | IA | Ida County | 7089 | 117 | 420
247 | NE | Thurston County | 6940 | 117 | 535
247 | NE | Dixon County | 6000 | 117 | 535
248 | TX | Brazos County | 194851 | 131 | 287
248 | TX | Grimes County | 26604 | 131 | 668
249 | KS | Shawnee County | 177934 | 123 | 179
249 | KS | Riley County | 71115 | 123 | 431
249 | KS | Geary County | 34362 | 123 | 431
249 | KS | Lyon County | 33690 | 123 | 436
249 | KS | Pottawatomie County | 21604 | 123 | 431
249 | KS | Dickinson County | 19754 | 123 | 435
249 | KS | Jefferson County | 19126 | 123 | 179
249 | KS | Osage County | 16295 | 123 | 179
249 | KS | Jackson County | 13462 | 123 | 432
249 | KS | Nemaha County | 10178 | 123 | 431
249 | KS | Marshall County | 10117 | 123 | 431
249 | KS | Brown County | 9984 | 123 | 432
249 | KS | Coffey County | 8601 | 123 | 437
249 | KS | Clay County | 8535 | 123 | 430
249 | KS | Wabaunsee County | 7053 | 123 | 436
249 | KS | Morris County | 5923 | 123 | 436
249 | KS | Washington County | 5799 | 123 | 430
249 | KS | Chase County | 2790 | 123 | 436
250 | NE | Gage County | 22311 | 119 | 542
250 | NE | Seward County | 16750 | 119 | 539
250 | NE | Otoe County | 15740 | 119 | 542
250 | NE | Saline County | 14200 | 119 | 541
250 | NE | York County | 13665 | 119 | 539
250 | NE | Richardson County | 8363 | 119 | 542
250 | NE | Jefferson County | 7547 | 119 | 541
250 | NE | Nemaha County | 7248 | 119 | 542
250 | NE | Fillmore County | 5890 | 119 | 541
250 | NE | Thayer County | 5228 | 119 | 541
250 | NE | Johnson County | 5217 | 119 | 542
250 | NE | Pawnee County | 2773 | 119 | 542
251 | TX | Victoria County | 86793 | 131 | 300
251 | TX | Wharton County | 41280 | 131 | 667
251 | TX | Matagorda County | 36702 | 131 | 667
251 | TX | Washington County | 33718 | 131 | 667
251 | TX | Austin County | 28417 | 131 | 667
251 | TX | Fayette County | 24554 | 131 | 667
251 | TX | Calhoun County | 21381 | 131 | 671
251 | TX | Colorado County | 20874 | 131 | 667
251 | TX | DeWitt County | 20097 | 131 | 671
251 | TX | Lavaca County | 19263 | 131 | 667
251 | TX | Burleson County | 17187 | 131 | 667
251 | TX | Jackson County | 14075 | 131 | 667
251 | TX | Goliad County | 7210 | 131 | 671
252 | NE | Lancaster County | 285407 | 119 | 172
253 | SD | Codington County | 27227 | 116 | 637
253 | SD | Roberts County | 10149 | 116 | 637
253 | SD | Grant County | 7356 | 116 | 637
253 | SD | Hamlin County | 5903 | 116 | 637
253 | MN | Big Stone County | 5269 | 116 | 486
253 | SD | Deuel County | 4364 | 116 | 637
253 | SD | Clark County | 3691 | 116 | 637
253 | MN | Traverse County | 3558 | 116 | 486
254 | NE | Dodge County | 36691 | 118 | 537
254 | NE | Madison County | 34876 | 118 | 535
254 | NE | Platte County | 32237 | 118 | 537
254 | NE | Cass County | 25241 | 118 | 542
254 | NE | Saunders County | 20780 | 118 | 537
254 | NE | Washington County | 20234 | 118 | 537
254 | NE | Colfax County | 10515 | 118 | 537
254 | NE | Wayne County | 9595 | 118 | 535
254 | NE | Cuming County | 9139 | 118 | 535
254 | NE | Butler County | 8395 | 118 | 537
254 | NE | Pierce County | 7266 | 118 | 535
254 | NE | Burt County | 6858 | 118 | 535
254 | NE | Antelope County | 6685 | 118 | 535
254 | NE | Stanton County | 6129 | 118 | 535
254 | NE | Boone County | 5505 | 118 | 537
254 | NE | Polk County | 5406 | 118 | 537
254 | NE | Nance County | 3735 | 118 | 537
255 | TX | Dallas County | 2368139 | 127 | 9
255 | TX | Tarrant County | 1809034 | 127 | 9
255 | TX | Collin County | 782341 | 127 | 9
255 | TX | Denton County | 662614 | 127 | 9
255 | TX | Johnson County | 150934 | 127 | 9
255 | TX | Ellis County | 149610 | 127 | 9
255 | TX | Parker County | 116927 | 127 | 9
255 | TX | Kaufman County | 103350 | 127 | 9
255 | TX | Rockwall County | 78337 | 127 | 9
255 | TX | Wise County | 59127 | 127 | 9
255 | TX | Hood County | 51182 | 127 | 9
256 | OK | Oklahoma County | 718633 | 125 | 45
256 | OK | Cleveland County | 255755 | 125 | 45
256 | OK | Canadian County | 115541 | 125 | 45
256 | OK | Pottawatomie County | 69442 | 125 | 45
256 | OK | Logan County | 41848 | 125 | 598
256 | OK | McClain County | 34506 | 125 | 45
256 | OK | Lincoln County | 34273 | 125 | 598
256 | OK | Seminole County | 25482 | 125 | 601
256 | OK | Hughes County | 14003 | 125 | 601
256 | OK | Okfuskee County | 12191 | 125 | 601
257 | KS | Sedgwick County | 498365 | 122 | 89
257 | KS | Butler County | 65880 | 122 | 89
257 | KS | Reno County | 64511 | 122 | 441
257 | KS | Cowley County | 36311 | 122 | 441
257 | KS | Harvey County | 34684 | 122 | 441
257 | KS | Sumner County | 24132 | 122 | 441
257 | KS | Kingman County | 7858 | 122 | 441
257 | KS | Greenwood County | 6689 | 122 | 436
257 | KS | Harper County | 6034 | 122 | 441
257 | KS | Elk County | 2882 | 122 | 442
258 | OK | Comanche County | 124098 | 125 | 260
258 | OK | Grady County | 52431 | 125 | 602
258 | OK | Carter County | 47557 | 125 | 604
258 | OK | Stephens County | 45048 | 125 | 603
258 | OK | Pontotoc County | 37492 | 125 | 604
258 | OK | Caddo County | 29600 | 125 | 602
258 | OK | Garvin County | 27576 | 125 | 604
258 | OK | Marshall County | 15840 | 125 | 604
258 | OK | Atoka County | 14182 | 125 | 604
258 | OK | Murray County | 13488 | 125 | 604
258 | OK | Johnston County | 10957 | 125 | 604
258 | OK | Love County | 9423 | 125 | 604
258 | OK | Jefferson County | 6472 | 125 | 603
258 | OK | Cotton County | 6193 | 125 | 603
258 | OK | Coal County | 5925 | 125 | 604
259 | TX | Bastrop County | 74171 | 130 | 667
259 | TX | Caldwell County | 38066 | 130 | 667
259 | TX | Milam County | 24757 | 130 | 661
259 | TX | Lee County | 16612 | 130 | 667
260 | ND | Grand Forks County | 66861 | 110 | 276
260 | MN | Polk County | 31600 | 110 | 276
260 | MN | Roseau County | 15629 | 110 | 482
260 | ND | Rolette County | 13937 | 110 | 581
260 | MN | Pennington County | 13930 | 110 | 482
260 | ND | Ramsey County | 11451 | 110 | 581
260 | ND | Walsh County | 11119 | 110 | 582
260 | MN | Marshall County | 9439 | 110 | 482
260 | ND | Traill County | 8121 | 110 | 582
260 | ND | Pembina County | 7413 | 110 | 582
260 | ND | Benson County | 6660 | 110 | 581
260 | MN | Kittson County | 4552 | 110 | 482
260 | MN | Red Lake County | 4089 | 110 | 482
260 | MN | Lake of the Woods County | 4045 | 110 | 483
260 | ND | Cavalier County | 3993 | 110 | 581
260 | ND | Nelson County | 3126 | 110 | 582
260 | ND | Eddy County | 2385 | 110 | 584
260 | ND | Towner County | 2246 | 110 | 581
260 | ND | Steele County | 1975 | 110 | 582
261 | TX | Nueces County | 340223 | 132 | 112
261 | TX | San Patricio County | 64804 | 132 | 112
261 | TX | Bee County | 31861 | 132 | 671
261 | TX | Aransas County | 23158 | 132 | 671
261 | TX | Refugio County | 7383 | 132 | 671
262 | TX | Travis County | 1024266 | 130 | 75
262 | TX | Williamson County | 422679 | 130 | 75
262 | TX | Hays County | 157107 | 130 | 75
263 | ND | Cass County | 149778 | 113 | 221
263 | MN | Clay County | 58999 | 113 | 221
263 | MN | Otter Tail County | 57303 | 113 | 486
263 | MN | Becker County | 32504 | 113 | 486
263 | ND | Stutsman County | 21100 | 113 | 584
263 | ND | Richland County | 16321 | 113 | 582
263 | ND | Barnes County | 11066 | 113 | 582
263 | MN | Norman County | 6852 | 113 | 483
263 | MN | Wilkin County | 6576 | 113 | 486
263 | ND | Ransom County | 5457 | 113 | 582
263 | MN | Mahnomen County | 5413 | 113 | 483
263 | ND | Dickey County | 5289 | 113 | 582
263 | ND | Pierce County | 4357 | 113 | 581
263 | ND | Wells County | 4207 | 113 | 584
263 | ND | LaMoure County | 4139 | 113 | 582
263 | ND | Sargent County | 3829 | 113 | 582
263 | ND | Foster County | 3343 | 113 | 584
263 | ND | Griggs County | 2420 | 113 | 582
263 | ND | Sheridan County | 1321 | 113 | 584
264 | TX | Jim Wells County | 40838 | 132 | 670
264 | TX | Kleberg County | 32061 | 132 | 670
264 | TX | Duval County | 11782 | 132 | 670
264 | TX | Live Oak County | 11531 | 132 | 670
264 | TX | Brooks County | 7223 | 132 | 670
264 | TX | McMullen County | 707 | 132 | 670
264 | TX | Kenedy County | 416 | 132 | 670
265 | TX | Hidalgo County | 774769 | 133 | 128
265 | TX | Cameron County | 406220 | 133 | 162
265 | TX | Starr County | 60968 | 133 | 670
265 | TX | Willacy County | 22134 | 133 | 670
266 | TX | Bell County | 310235 | 127 | 160
266 | TX | McLennan County | 234906 | 127 | 194
266 | TX | Coryell County | 75388 | 127 | 160
266 | TX | Brown County | 38106 | 127 | 660
266 | TX | Erath County | 37890 | 127 | 660
266 | TX | Hill County | 35089 | 127 | 660
266 | TX | Lampasas County | 19677 | 127 | 666
266 | TX | Eastland County | 18583 | 127 | 660
266 | TX | Bosque County | 18212 | 127 | 660
266 | TX | Falls County | 17866 | 127 | 661
266 | TX | Comanche County | 13974 | 127 | 660
266 | TX | Coleman County | 8895 | 127 | 660
266 | TX | Hamilton County | 8517 | 127 | 660
266 | TX | Somervell County | 8490 | 127 | 660
266 | TX | San Saba County | 6131 | 127 | 666
266 | TX | Mills County | 4936 | 127 | 660
267 | TX | Burnet County | 42750 | 130 | 666
267 | TX | Llano County | 19301 | 130 | 666
267 | TX | Blanco County | 10497 | 130 | 666
268 | TX | Bexar County | 1714773 | 134 | 33
268 | TX | Guadalupe County | 131533 | 134 | 33
268 | TX | Comal County | 108472 | 134 | 33
268 | TX | Kerr County | 49625 | 134 | 666
268 | TX | Wilson County | 42918 | 134 | 671
268 | TX | Kendall County | 33410 | 134 | 666
268 | TX | Gillespie County | 24837 | 134 | 666
268 | TX | Gonzales County | 19807 | 134 | 667
268 | TX | Karnes County | 14824 | 134 | 671
269 | OK | Garfield County | 60580 | 125 | 302
269 | OK | Kingfisher County | 15034 | 125 | 600
269 | OK | Blaine County | 11943 | 125 | 600
269 | OK | Woods County | 8878 | 125 | 597
269 | OK | Major County | 7527 | 125 | 597
269 | OK | Alfalfa County | 5642 | 125 | 597
269 | OK | Grant County | 4527 | 125 | 598
270 | TX | Wichita County | 131500 | 127 | 233
270 | TX | Cooke County | 38437 | 127 | 657
270 | TX | Palo Pinto County | 28111 | 127 | 657
270 | TX | Montague County | 19719 | 127 | 657
270 | TX | Young County | 18550 | 127 | 656
270 | TX | Wilbarger County | 13535 | 127 | 656
270 | TX | Clay County | 10752 | 127 | 233
270 | TX | Stephens County | 9630 | 127 | 656
270 | TX | Archer County | 9054 | 127 | 656
270 | TX | Jack County | 9044 | 127 | 657
270 | OK | Tillman County | 7992 | 127 | 603
270 | TX | Hardeman County | 4139 | 127 | 656
270 | TX | Baylor County | 3726 | 127 | 656
270 | TX | Throckmorton County | 1641 | 127 | 656
270 | TX | Foard County | 1336 | 127 | 656
271 | SD | Minnehaha County | 169468 | 116 | 267
271 | SD | Lincoln County | 44828 | 116 | 642
271 | SD | Brookings County | 31965 | 116 | 641
271 | SD | Yankton County | 22438 | 116 | 642
271 | SD | Davison County | 19504 | 116 | 640
271 | SD | Beadle County | 17398 | 116 | 641
271 | SD | Hughes County | 17022 | 116 | 640
271 | SD | Clay County | 13864 | 116 | 642
271 | IA | Lyon County | 11581 | 116 | 427
271 | SD | Lake County | 11200 | 116 | 641
271 | MN | Rock County | 9687 | 116 | 490
271 | MN | Pipestone County | 9596 | 116 | 490
271 | SD | Charles Mix County | 9129 | 116 | 640
271 | NE | Cedar County | 8852 | 116 | 535
271 | NE | Knox County | 8701 | 116 | 535
271 | SD | Turner County | 8347 | 116 | 642
271 | SD | Hutchinson County | 7343 | 116 | 642
271 | SD | Bon Homme County | 7070 | 116 | 642
271 | SD | Moody County | 6486 | 116 | 641
271 | SD | Tripp County | 5644 | 116 | 639
271 | SD | McCook County | 5618 | 116 | 642
271 | SD | Brule County | 5255 | 116 | 640
271 | SD | Kingsbury County | 5148 | 116 | 641
271 | SD | Gregory County | 4271 | 116 | 639
271 | SD | Lyman County | 3755 | 116 | 639
271 | SD | Hand County | 3431 | 116 | 640
271 | SD | Hanson County | 3331 | 116 | 642
271 | SD | Douglas County | 3002 | 116 | 640
271 | SD | Stanley County | 2966 | 116 | 639
271 | SD | Aurora County | 2710 | 116 | 640
271 | SD | Miner County | 2389 | 116 | 641
271 | SD | Sanborn County | 2355 | 116 | 641
271 | SD | Jerauld County | 2071 | 116 | 640
271 | SD | Buffalo County | 1912 | 116 | 640
271 | SD | Hyde County | 1420 | 116 | 640
271 | SD | Sully County | 1373 | 116 | 640
272 | OK | Custer County | 27469 | 126 | 600
272 | OK | Jackson County | 26446 | 126 | 603
272 | OK | Beckham County | 22119 | 126 | 602
272 | OK | Woodward County | 20081 | 126 | 597
272 | OK | Washita County | 11629 | 126 | 602
272 | OK | Kiowa County | 9446 | 126 | 602
272 | OK | Greer County | 6239 | 126 | 602
272 | OK | Dewey County | 4810 | 126 | 600
272 | OK | Ellis County | 4151 | 126 | 597
272 | OK | Harper County | 3685 | 126 | 597
272 | OK | Roger Mills County | 3647 | 126 | 600
272 | OK | Harmon County | 2922 | 126 | 602
273 | TX | Webb County | 250304 | 134 | 281
273 | TX | Maverick County | 54258 | 134 | 669
273 | TX | Medina County | 46006 | 134 | 669
273 | TX | Atascosa County | 44911 | 134 | 670
273 | TX | Uvalde County | 26405 | 134 | 669
273 | TX | Bandera County | 20485 | 134 | 669
273 | TX | Frio County | 17217 | 134 | 669
273 | TX | Zapata County | 14018 | 134 | 670
273 | TX | Zavala County | 11677 | 134 | 669
273 | TX | Dimmit County | 9996 | 134 | 669
273 | TX | La Salle County | 6886 | 134 | 669
273 | TX | Jim Hogg County | 5300 | 134 | 670
273 | TX | Real County | 3309 | 134 | 669
274 | NE | Hall County | 58607 | 120 | 539
274 | NE | Buffalo County | 46102 | 120 | 538
274 | NE | Adams County | 31364 | 120 | 541
274 | NE | Dawson County | 24326 | 120 | 538
274 | NE | Red Willow County | 11055 | 120 | 540
274 | NE | Custer County | 10939 | 120 | 536
274 | NE | Holt County | 10435 | 120 | 534
274 | NE | Phelps County | 9188 | 120 | 540
274 | NE | Hamilton County | 9124 | 120 | 539
274 | NE | Merrick County | 7845 | 120 | 537
274 | NE | Clay County | 6542 | 120 | 541
274 | NE | Kearney County | 6489 | 120 | 540
274 | NE | Howard County | 6274 | 120 | 536
274 | NE | Furnas County | 4959 | 120 | 540
274 | NE | Nuckolls County | 4500 | 120 | 541
274 | NE | Valley County | 4260 | 120 | 536
274 | NE | Webster County | 3812 | 120 | 541
274 | NE | Harlan County | 3423 | 120 | 540
274 | NE | Franklin County | 3225 | 120 | 540
274 | NE | Sherman County | 3152 | 120 | 536
274 | NE | Brown County | 3145 | 120 | 534
274 | NE | Hitchcock County | 2908 | 120 | 540
274 | NE | Frontier County | 2756 | 120 | 540
274 | NE | Greeley County | 2538 | 120 | 536
274 | NE | Boyd County | 2099 | 120 | 534
274 | NE | Garfield County | 2049 | 120 | 534
274 | NE | Gosper County | 2044 | 120 | 540
274 | NE | Rock County | 1526 | 120 | 534
274 | NE | Hayes County | 967 | 120 | 540
274 | NE | Keya Paha County | 824 | 120 | 534
274 | NE | Wheeler County | 818 | 120 | 534
274 | NE | Loup County | 632 | 120 | 536
275 | SD | Brown County | 36531 | 114 | 636
275 | SD | Spink County | 6415 | 114 | 636
275 | SD | Day County | 5710 | 114 | 637
275 | SD | Walworth County | 5438 | 114 | 635
275 | SD | Dewey County | 5301 | 114 | 635
275 | SD | Marshall County | 4656 | 114 | 637
275 | SD | Edmunds County | 4071 | 114 | 636
275 | SD | Ziebach County | 2801 | 114 | 635
275 | SD | McPherson County | 2459 | 114 | 636
275 | SD | Faulk County | 2364 | 114 | 636
275 | SD | Potter County | 2329 | 114 | 635
275 | SD | Campbell County | 1466 | 114 | 635
276 | KS | Saline County | 55606 | 122 | 435
276 | KS | Finney County | 36776 | 122 | 438
276 | KS | Ford County | 33848 | 122 | 439
276 | KS | McPherson County | 29180 | 122 | 435
276 | KS | Ellis County | 28452 | 122 | 434
276 | KS | Barton County | 27674 | 122 | 434
276 | KS | Seward County | 22952 | 122 | 438
276 | OK | Texas County | 20640 | 122 | 596
276 | KS | Marion County | 12660 | 122 | 435
276 | KS | Rice County | 10083 | 122 | 435
276 | KS | Pratt County | 9656 | 122 | 440
276 | KS | Cloud County | 9533 | 122 | 430
276 | KS | Grant County | 7829 | 122 | 438
276 | KS | Pawnee County | 6973 | 122 | 434
276 | KS | Russell County | 6970 | 122 | 434
276 | KS | Ellsworth County | 6497 | 122 | 435
276 | KS | Mitchell County | 6373 | 122 | 430
276 | KS | Ottawa County | 6091 | 122 | 430
276 | KS | Gray County | 6006 | 122 | 439
276 | KS | Stevens County | 5724 | 122 | 438
276 | KS | Norton County | 5671 | 122 | 429
276 | KS | Phillips County | 5642 | 122 | 429
276 | OK | Beaver County | 5636 | 122 | 596
276 | KS | Rooks County | 5181 | 122 | 429
276 | KS | Republic County | 4980 | 122 | 430
276 | KS | Scott County | 4936 | 122 | 433
276 | KS | Barber County | 4861 | 122 | 440
276 | KS | Meade County | 4575 | 122 | 439
276 | KS | Stafford County | 4437 | 122 | 440
276 | KS | Haskell County | 4256 | 122 | 438
276 | KS | Kearny County | 3977 | 122 | 438
276 | KS | Osborne County | 3858 | 122 | 429
276 | KS | Smith County | 3853 | 122 | 429
276 | KS | Rush County | 3307 | 122 | 434
276 | KS | Lincoln County | 3241 | 122 | 430
276 | KS | Morton County | 3233 | 122 | 438
276 | KS | Ness County | 3107 | 122 | 434
276 | KS | Jewell County | 3077 | 122 | 430
276 | KS | Edwards County | 3037 | 122 | 440
276 | KS | Trego County | 3001 | 122 | 434
276 | KS | Decatur County | 2961 | 122 | 428
276 | KS | Hamilton County | 2690 | 122 | 438
276 | KS | Graham County | 2597 | 122 | 429
276 | KS | Kiowa County | 2553 | 122 | 440
276 | KS | Rawlins County | 2519 | 122 | 428
276 | OK | Cimarron County | 2475 | 122 | 596
276 | KS | Stanton County | 2235 | 122 | 438
276 | KS | Wichita County | 2234 | 122 | 433
276 | KS | Clark County | 2215 | 122 | 439
276 | KS | Hodgeman County | 1916 | 122 | 439
276 | KS | Comanche County | 1891 | 122 | 440
276 | KS | Lane County | 1750 | 122 | 433
276 | KS | Greeley County | 1247 | 122 | 433
277 | TX | Taylor County | 131506 | 128 | 220
277 | TX | Jones County | 20202 | 128 | 220
277 | TX | Scurry County | 16921 | 128 | 659
277 | TX | Nolan County | 15216 | 128 | 659
277 | TX | Callahan County | 13544 | 128 | 220
277 | TX | Mitchell County | 9403 | 128 | 659
277 | TX | Haskell County | 5899 | 128 | 656
277 | TX | Fisher County | 3974 | 128 | 659
277 | TX | Knox County | 3719 | 128 | 656
277 | TX | Shackelford County | 3378 | 128 | 656
277 | TX | Stonewall County | 1490 | 128 | 655
277 | TX | King County | 286 | 128 | 655
278 | TX | Tom Green County | 110224 | 129 | 294
278 | TX | Val Verde County | 48879 | 129 | 669
278 | TX | Runnels County | 10501 | 129 | 660
278 | TX | McCulloch County | 8283 | 129 | 666
278 | TX | Kimble County | 4607 | 129 | 666
278 | TX | Sutton County | 4128 | 129 | 665
278 | TX | Concho County | 4087 | 129 | 666
278 | TX | Mason County | 4012 | 129 | 666
278 | TX | Kinney County | 3598 | 129 | 669
278 | TX | Schleicher County | 3461 | 129 | 665
278 | TX | Coke County | 3320 | 129 | 659
278 | TX | Menard County | 2242 | 129 | 666
278 | TX | Edwards County | 2002 | 129 | 669
278 | TX | Irion County | 1599 | 129 | 665
278 | TX | Sterling County | 1143 | 129 | 659
279 | TX | Garza County | 6461 | 137 | 655
279 | TX | Floyd County | 6446 | 137 | 655
279 | TX | Crosby County | 6059 | 137 | 655
279 | TX | Dickens County | 2444 | 137 | 655
279 | TX | Briscoe County | 1637 | 137 | 655
279 | TX | Motley County | 1210 | 137 | 655
279 | TX | Kent County | 808 | 137 | 655
280 | NE | Lincoln County | 36288 | 121 | 538
280 | NE | Keith County | 8368 | 121 | 538
280 | NE | Chase County | 3966 | 121 | 540
280 | NE | Perkins County | 2970 | 121 | 538
280 | CO | Sedgwick County | 2379 | 121 | 349
280 | NE | Garden County | 2057 | 121 | 533
280 | NE | Deuel County | 1941 | 121 | 533
280 | NE | Logan County | 763 | 121 | 536
280 | NE | Hooker County | 736 | 121 | 536
280 | NE | Thomas County | 647 | 121 | 536
280 | NE | McPherson County | 539 | 121 | 536
280 | NE | Blaine County | 478 | 121 | 536
280 | NE | Arthur County | 460 | 121 | 536
281 | TX | Potter County | 121073 | 138 | 188
281 | TX | Randall County | 120725 | 138 | 188
281 | TX | Gray County | 22535 | 138 | 653
281 | TX | Hutchinson County | 22150 | 138 | 653
281 | TX | Moore County | 21904 | 138 | 652
281 | TX | Deaf Smith County | 19372 | 138 | 652
281 | TX | Ochiltree County | 10223 | 138 | 653
281 | TX | Childress County | 7041 | 138 | 655
281 | TX | Dallam County | 6703 | 138 | 652
281 | TX | Carson County | 6182 | 138 | 653
281 | TX | Hartley County | 6062 | 138 | 652
281 | TX | Hansford County | 5613 | 138 | 653
281 | TX | Wheeler County | 5410 | 138 | 653
281 | TX | Hemphill County | 3807 | 138 | 653
281 | TX | Donley County | 3677 | 138 | 653
281 | TX | Hall County | 3353 | 138 | 655
281 | TX | Lipscomb County | 3302 | 138 | 653
281 | TX | Collingsworth County | 3057 | 138 | 653
281 | TX | Sherman County | 3034 | 138 | 652
281 | TX | Oldham County | 2052 | 138 | 652
281 | TX | Armstrong County | 1901 | 138 | 653
281 | TX | Cottle County | 1505 | 138 | 655
281 | TX | Roberts County | 929 | 138 | 653
282 | ND | Burleigh County | 81308 | 112 | 298
282 | ND | Morton County | 27471 | 112 | 298
282 | ND | Stark County | 24199 | 112 | 583
282 | ND | McLean County | 8962 | 112 | 580
282 | ND | Mercer County | 8424 | 112 | 583
282 | ND | Sioux County | 4153 | 112 | 583
282 | SD | Corson County | 4050 | 112 | 635
282 | ND | Emmons County | 3550 | 112 | 584
282 | ND | Dunn County | 3536 | 112 | 583
282 | ND | Bowman County | 3151 | 112 | 583
282 | ND | McIntosh County | 2809 | 112 | 584
282 | ND | Hettinger County | 2477 | 112 | 583
282 | ND | Kidder County | 2435 | 112 | 584
282 | ND | Grant County | 2394 | 112 | 583
282 | ND | Logan County | 1990 | 112 | 584
282 | ND | Oliver County | 1846 | 112 | 583
282 | ND | Golden Valley County | 1680 | 112 | 583
282 | MT | Wibaux County | 1017 | 112 | 526
282 | ND | Billings County | 783 | 112 | 583
282 | ND | Slope County | 727 | 112 | 583
283 | ND | Ward County | 61675 | 111 | 580
283 | ND | Williams County | 22398 | 111 | 580
283 | ND | Mountrail County | 7673 | 111 | 580
283 | ND | Bottineau County | 6429 | 111 | 581
283 | ND | McKenzie County | 6360 | 111 | 583
283 | ND | McHenry County | 5395 | 111 | 581
283 | ND | Renville County | 2470 | 111 | 580
283 | ND | Divide County | 2071 | 111 | 580
283 | ND | Burke County | 1968 | 111 | 580
284 | TX | Lubbock County | 278831 | 137 | 161
284 | TX | Hale County | 36273 | 137 | 654
284 | TX | Hockley County | 22935 | 137 | 654
284 | TX | Lamb County | 13977 | 137 | 654
284 | TX | Terry County | 12651 | 137 | 654
284 | TX | Swisher County | 7854 | 137 | 654
284 | TX | Lynn County | 5915 | 137 | 654
284 | TX | Cochran County | 3127 | 137 | 654
285 | CO | Morgan County | 28159 | 141 | 349
285 | CO | Elbert County | 23086 | 141 | 352
285 | CO | Logan County | 22709 | 141 | 349
285 | CO | Yuma County | 10043 | 141 | 349
285 | CO | Kit Carson County | 8270 | 141 | 352
285 | KS | Thomas County | 7900 | 141 | 428
285 | KS | Sherman County | 6010 | 141 | 428
285 | CO | Lincoln County | 5467 | 141 | 352
285 | CO | Washington County | 4814 | 141 | 349
285 | CO | Phillips County | 4442 | 141 | 349
285 | KS | Logan County | 2756 | 141 | 433
285 | KS | Cheyenne County | 2726 | 141 | 428
285 | KS | Gove County | 2695 | 141 | 433
285 | KS | Sheridan County | 2556 | 141 | 428
285 | NE | Dundy County | 2008 | 141 | 540
285 | KS | Wallace County | 1485 | 141 | 433
286 | TX | Ector County | 137130 | 135 | 255
286 | TX | Midland County | 136872 | 135 | 295
286 | TX | Howard County | 35012 | 135 | 659
286 | TX | Andrews County | 14786 | 135 | 659
286 | TX | Dawson County | 13833 | 135 | 659
286 | TX | Ward County | 10658 | 135 | 665
286 | TX | Winkler County | 7110 | 135 | 665
286 | TX | Martin County | 4799 | 135 | 659
286 | TX | Crane County | 4375 | 135 | 665
286 | TX | Crockett County | 3719 | 135 | 665
286 | TX | Reagan County | 3367 | 135 | 665
286 | TX | Upton County | 3355 | 135 | 665
286 | TX | Glasscock County | 1226 | 135 | 659
286 | TX | Borden County | 641 | 135 | 659
286 | TX | Loving County | 82 | 135 | 665
287 | SD | Pennington County | 100948 | 115 | 289
287 | SD | Meade County | 25434 | 115 | 289
287 | SD | Lawrence County | 24097 | 115 | 634
287 | SD | Shannon County | 13586 | 115 | 638
287 | SD | Butte County | 10110 | 115 | 634
287 | SD | Todd County | 9612 | 115 | 639
287 | SD | Custer County | 8216 | 115 | 638
287 | SD | Fall River County | 7094 | 115 | 638
287 | NE | Cherry County | 5713 | 115 | 534
287 | NE | Sheridan County | 5469 | 115 | 533
287 | SD | Bennett County | 3431 | 115 | 639
287 | SD | Jackson County | 3031 | 115 | 639
287 | SD | Perkins County | 2982 | 115 | 634
287 | ND | Adams County | 2343 | 115 | 583
287 | SD | Mellette County | 2048 | 115 | 639
287 | SD | Haakon County | 1937 | 115 | 639
287 | SD | Harding County | 1255 | 115 | 634
287 | MT | Carter County | 1160 | 115 | 532
287 | SD | Jones County | 1006 | 115 | 639
287 | NE | Grant County | 614 | 115 | 536
288 | TX | Pecos County | 15507 | 135 | 664
288 | TX | Reeves County | 13783 | 135 | 664
288 | TX | Brewster County | 9232 | 135 | 663
288 | TX | Presidio County | 7818 | 135 | 663
288 | TX | Jeff Davis County | 2342 | 135 | 663
288 | TX | Terrell County | 984 | 135 | 664
289 | NM | Curry County | 48376 | 138 | 556
289 | NM | Roosevelt County | 19846 | 138 | 556
289 | TX | Parmer County | 10269 | 138 | 654
289 | NM | Quay County | 9041 | 138 | 556
289 | TX | Castro County | 8062 | 138 | 654
289 | TX | Bailey County | 7165 | 138 | 654
289 | NM | Union County | 4549 | 138 | 554
289 | NM | De Baca County | 2022 | 138 | 556
289 | NM | Harding County | 695 | 138 | 554
290 | NE | Scotts Bluff County | 36970 | 142 | 533
290 | WY | Goshen County | 13249 | 142 | 721
290 | NE | Box Butte County | 11308 | 142 | 533
290 | NE | Cheyenne County | 9998 | 142 | 533
290 | NE | Dawes County | 9182 | 142 | 533
290 | NE | Morrill County | 5042 | 142 | 533
290 | NE | Kimball County | 3821 | 142 | 533
290 | NE | Sioux County | 1311 | 142 | 533
290 | NE | Banner County | 690 | 142 | 533
291 | NM | Chaves County | 65645 | 136 | 558
291 | NM | Lea County | 64727 | 136 | 558
291 | NM | Eddy County | 53829 | 136 | 558
291 | TX | Gaines County | 17526 | 136 | 659
291 | TX | Yoakum County | 7879 | 136 | 654
292 | CO | Pueblo County | 159063 | 140 | 241
293 | CO | El Paso County | 622263 | 141 | 117
294 | CO | Otero County | 18831 | 140 | 355
294 | CO | Las Animas County | 15507 | 140 | 356
294 | CO | Alamosa County | 15445 | 140 | 354
294 | NM | Colfax County | 13750 | 140 | 554
294 | CO | Prowers County | 12551 | 140 | 355
294 | CO | Rio Grande County | 11982 | 140 | 354
294 | CO | Conejos County | 8256 | 140 | 354
294 | CO | Huerfano County | 6711 | 140 | 356
294 | CO | Bent County | 6499 | 140 | 355
294 | CO | Saguache County | 6108 | 140 | 354
294 | CO | Crowley County | 5823 | 140 | 355
294 | CO | Baca County | 3788 | 140 | 356
294 | CO | Costilla County | 3524 | 140 | 356
294 | CO | Cheyenne County | 1836 | 140 | 352
294 | CO | Kiowa County | 1398 | 140 | 355
294 | CO | Mineral County | 712 | 140 | 354
295 | CO | Denver County | 600158 | 141 | 19
295 | CO | Arapahoe County | 572003 | 141 | 19
295 | CO | Jefferson County | 534543 | 141 | 19
295 | CO | Adams County | 441603 | 141 | 19
295 | CO | Boulder County | 294567 | 141 | 19
295 | CO | Douglas County | 285465 | 141 | 19
295 | CO | Broomfield County | 55889 | 141 | 19
295 | CO | Gilpin County | 5441 | 141 | 19
296 | CO | Larimer County | 299630 | 141 | 210
296 | CO | Weld County | 252825 | 141 | 243
297 | CO | Teller County | 23350 | 141 | 117
298 | NM | Santa Fe County | 144170 | 139 | 556
298 | NM | Rio Arriba County | 40246 | 139 | 553
298 | NM | Taos County | 32937 | 139 | 553
298 | NM | San Miguel County | 29393 | 139 | 556
298 | NM | Los Alamos County | 17950 | 139 | 556
298 | NM | Mora County | 4881 | 139 | 554
298 | NM | Guadalupe County | 4687 | 139 | 556
299 | NM | Do±a Ana County | 209233 | 157 | 285
299 | NM | Otero County | 63797 | 157 | 558
299 | NM | Lincoln County | 20497 | 157 | 558
299 | NM | Sierra County | 11988 | 157 | 555
299 | TX | Hudspeth County | 3476 | 157 | 663
299 | TX | Culberson County | 2398 | 157 | 663
300 | TX | El Paso County | 800647 | 157 | 81
301 | NM | Bernalillo County | 662564 | 156 | 86
302 | NM | Sandoval County | 131561 | 156 | 86
303 | CO | Mesa County | 146723 | 141 | 350
303 | CO | Garfield County | 56389 | 141 | 350
303 | CO | Eagle County | 52197 | 141 | 350
303 | CO | Fremont County | 46824 | 141 | 351
303 | CO | Montrose County | 41276 | 141 | 350
303 | CO | Delta County | 30952 | 141 | 350
303 | CO | Summit County | 27994 | 141 | 350
303 | CO | Routt County | 23509 | 141 | 348
303 | CO | Chaffee County | 17809 | 141 | 351
303 | CO | Pitkin County | 17148 | 141 | 350
303 | CO | Park County | 16206 | 141 | 351
303 | CO | Gunnison County | 15324 | 141 | 350
303 | CO | Grand County | 14843 | 141 | 348
303 | CO | Moffat County | 13795 | 141 | 348
303 | CO | Clear Creek County | 9088 | 141 | 350
303 | CO | San Miguel County | 7359 | 141 | 353
303 | CO | Lake County | 7310 | 141 | 351
303 | CO | Rio Blanco County | 6666 | 141 | 348
303 | CO | Ouray County | 4436 | 141 | 353
303 | CO | Custer County | 4255 | 141 | 351
303 | CO | Jackson County | 1394 | 141 | 348
303 | CO | Hinsdale County | 843 | 141 | 353
304 | NM | Valencia County | 76569 | 156 | 555
304 | AZ | Apache County | 71518 | 156 | 320
304 | NM | McKinley County | 71492 | 156 | 553
304 | NM | Cibola County | 27213 | 156 | 553
304 | NM | Socorro County | 17866 | 156 | 555
304 | NM | Torrance County | 16383 | 156 | 556
304 | NM | Catron County | 3725 | 156 | 555
305 | NM | San Juan County | 130044 | 155 | 553
305 | CO | La Plata County | 51334 | 155 | 353
305 | CO | Montezuma County | 25535 | 155 | 353
305 | CO | Archuleta County | 12084 | 155 | 354
305 | CO | Dolores County | 2064 | 155 | 353
305 | CO | San Juan County | 699 | 155 | 353
306 | WY | Laramie County | 91738 | 143 | 721
306 | WY | Natrona County | 75450 | 143 | 299
306 | WY | Campbell County | 46133 | 143 | 719
306 | WY | Sweetwater County | 43806 | 143 | 720
306 | WY | Fremont County | 40123 | 143 | 720
306 | WY | Albany County | 36299 | 143 | 721
306 | WY | Uinta County | 21118 | 143 | 720
306 | WY | Lincoln County | 18106 | 143 | 720
306 | WY | Carbon County | 15885 | 143 | 720
306 | WY | Converse County | 13833 | 143 | 722
306 | WY | Sublette County | 10247 | 143 | 720
306 | WY | Platte County | 8667 | 143 | 721
306 | WY | Washakie County | 8533 | 143 | 718
306 | WY | Weston County | 7208 | 143 | 719
306 | WY | Crook County | 7083 | 143 | 719
306 | ID | Caribou County | 6963 | 143 | 393
306 | ID | Bear Lake County | 5986 | 143 | 393
306 | WY | Hot Springs County | 4812 | 143 | 718
306 | WY | Niobrara County | 2484 | 143 | 721
306 | UT | Rich County | 2264 | 143 | 673
306 | UT | Daggett County | 1059 | 143 | 677
307 | MT | Yellowstone County | 147972 | 144 | 268
307 | MT | Gallatin County | 89513 | 144 | 530
307 | WY | Sheridan County | 29116 | 144 | 719
307 | WY | Park County | 28205 | 144 | 718
307 | MT | Park County | 15636 | 144 | 530
307 | MT | Big Horn County | 12865 | 144 | 531
307 | MT | Custer County | 11699 | 144 | 532
307 | WY | Big Horn County | 11668 | 144 | 718
307 | MT | Roosevelt County | 10425 | 144 | 526
307 | MT | Carbon County | 10078 | 144 | 531
307 | MT | Richland County | 9746 | 144 | 526
307 | MT | Rosebud County | 9233 | 144 | 531
307 | MT | Stillwater County | 9117 | 144 | 529
307 | MT | Dawson County | 8966 | 144 | 526
307 | WY | Johnson County | 8569 | 144 | 719
307 | MT | Madison County | 7691 | 144 | 530
307 | MT | Valley County | 7369 | 144 | 525
307 | MT | Musselshell County | 4538 | 144 | 529
307 | MT | Sweet Grass County | 3651 | 144 | 529
307 | MT | Sheridan County | 3384 | 144 | 526
307 | MT | Fallon County | 2890 | 144 | 532
307 | MT | Daniels County | 1751 | 144 | 526
307 | MT | Powder River County | 1743 | 144 | 532
307 | MT | McCone County | 1734 | 144 | 526
307 | MT | Garfield County | 1206 | 144 | 525
307 | MT | Prairie County | 1179 | 144 | 532
307 | MT | Golden Valley County | 884 | 144 | 529
307 | MT | Treasure County | 718 | 144 | 531
307 | MT | Petroleum County | 494 | 144 | 529
308 | AZ | Pinal County | 375770 | 158 | 322
308 | AZ | Gila County | 53597 | 158 | 322
308 | AZ | Graham County | 37220 | 158 | 323
308 | NM | Grant County | 29514 | 158 | 557
308 | NM | Luna County | 25095 | 158 | 557
308 | AZ | Greenlee County | 8437 | 158 | 323
308 | NM | Hidalgo County | 4894 | 158 | 557
309 | AZ | Navajo County | 107449 | 154 | 320
309 | UT | San Juan County | 14746 | 154 | 678
309 | UT | Kane County | 7125 | 154 | 678
310 | MT | Cascade County | 81327 | 145 | 297
310 | MT | Hill County | 16096 | 145 | 524
310 | MT | Glacier County | 13399 | 145 | 523
310 | MT | Fergus County | 11586 | 145 | 529
310 | MT | Blaine County | 6491 | 145 | 524
310 | MT | Pondera County | 6153 | 145 | 523
310 | MT | Teton County | 6073 | 145 | 523
310 | MT | Chouteau County | 5813 | 145 | 524
310 | MT | Toole County | 5324 | 145 | 524
310 | MT | Phillips County | 4253 | 145 | 525
310 | MT | Liberty County | 2339 | 145 | 524
310 | MT | Wheatland County | 2168 | 145 | 528
310 | MT | Judith Basin County | 2072 | 145 | 528
310 | MT | Meagher County | 1891 | 145 | 528
311 | AZ | Pima County | 980263 | 159 | 77
311 | AZ | Cochise County | 131346 | 159 | 323
311 | AZ | Santa Cruz County | 47420 | 159 | 323
312 | UT | Summit County | 36324 | 152 | 674
312 | UT | Uintah County | 32588 | 152 | 677
312 | UT | Sanpete County | 27822 | 152 | 675
312 | UT | Wasatch County | 23530 | 152 | 674
312 | UT | Carbon County | 21403 | 152 | 677
312 | UT | Sevier County | 20802 | 152 | 675
312 | UT | Duchesne County | 18607 | 152 | 677
312 | UT | Millard County | 12503 | 152 | 675
312 | UT | Emery County | 10976 | 152 | 677
312 | UT | Juab County | 10246 | 152 | 675
312 | UT | Morgan County | 9469 | 152 | 674
312 | UT | Grand County | 9225 | 152 | 677
312 | UT | Wayne County | 2778 | 152 | 678
313 | AZ | Coconino County | 134421 | 154 | 319
314 | AZ | Maricopa County | 3817117 | 158 | 26
315 | UT | Salt Lake County | 1029655 | 152 | 39
315 | UT | Utah County | 516564 | 152 | 159
315 | UT | Davis County | 306479 | 152 | 39
315 | UT | Weber County | 231236 | 152 | 39
315 | UT | Tooele County | 58218 | 152 | 39
316 | ID | Bonneville County | 104234 | 148 | 393
316 | ID | Bannock County | 82839 | 148 | 393
316 | ID | Bingham County | 45607 | 148 | 393
316 | ID | Madison County | 37536 | 148 | 393
316 | ID | Jefferson County | 26140 | 148 | 393
316 | WY | Teton County | 21294 | 148 | 720
316 | ID | Fremont County | 13242 | 148 | 393
316 | ID | Teton County | 10170 | 148 | 393
316 | ID | Lemhi County | 7936 | 148 | 390
316 | ID | Power County | 7817 | 148 | 393
316 | ID | Custer County | 4368 | 148 | 390
316 | ID | Butte County | 2891 | 148 | 392
316 | ID | Clark County | 982 | 148 | 393
317 | UT | Cache County | 112656 | 152 | 673
317 | UT | Box Elder County | 49975 | 152 | 673
317 | ID | Franklin County | 12786 | 152 | 393
317 | ID | Oneida County | 4286 | 152 | 393
318 | MT | Missoula County | 109299 | 146 | 527
318 | MT | Flathead County | 90928 | 146 | 523
318 | MT | Lewis and Clark County | 63395 | 146 | 527
318 | MT | Ravalli County | 40212 | 146 | 527
318 | MT | Silver Bow County | 34200 | 146 | 528
318 | MT | Lake County | 28746 | 146 | 523
318 | MT | Lincoln County | 19687 | 146 | 523
318 | MT | Sanders County | 11413 | 146 | 523
318 | MT | Jefferson County | 11406 | 146 | 528
318 | MT | Deer Lodge County | 9298 | 146 | 528
318 | MT | Beaverhead County | 9246 | 146 | 530
318 | MT | Powell County | 7027 | 146 | 527
318 | MT | Broadwater County | 5612 | 146 | 528
318 | MT | Mineral County | 4223 | 146 | 527
318 | MT | Granite County | 3079 | 146 | 527
319 | ID | Twin Falls County | 77230 | 149 | 392
319 | ID | Cassia County | 22952 | 149 | 392
319 | ID | Jerome County | 22374 | 149 | 392
319 | ID | Blaine County | 21376 | 149 | 392
319 | ID | Minidoka County | 20069 | 149 | 392
319 | ID | Gooding County | 15464 | 149 | 392
319 | ID | Lincoln County | 5208 | 149 | 392
319 | ID | Camas County | 1117 | 149 | 392
320 | NV | Clark County | 1951269 | 153 | 93
320 | AZ | Mohave County | 200186 | 153 | 318
321 | UT | Washington County | 138115 | 153 | 676
321 | UT | Iron County | 46163 | 153 | 676
321 | NV | Nye County | 43946 | 153 | 546
321 | UT | Beaver County | 6629 | 153 | 676
321 | NV | Lincoln County | 5345 | 153 | 547
321 | UT | Garfield County | 5172 | 153 | 678
321 | NV | Mineral County | 4772 | 153 | 546
321 | UT | Piute County | 1556 | 153 | 678
321 | NV | Esmeralda County | 783 | 153 | 546
322 | AZ | Yuma County | 195751 | 160 | 321
322 | CA | Imperial County | 174528 | 160 | 342
322 | AZ | La Paz County | 20489 | 160 | 321
323 | NV | Washoe County | 421407 | 151 | 171
323 | NV | Carson City | 55274 | 151 | 545
323 | NV | Lyon County | 51980 | 151 | 545
323 | NV | Elko County | 48818 | 151 | 544
323 | NV | Douglas County | 46997 | 151 | 545
323 | CA | Lassen County | 34895 | 151 | 337
323 | NV | Churchill County | 24877 | 151 | 543
323 | CA | Plumas County | 20007 | 151 | 337
323 | CA | Inyo County | 18546 | 151 | 341
323 | NV | Humboldt County | 16528 | 151 | 543
323 | CA | Mono County | 14202 | 151 | 341
323 | NV | White Pine County | 10030 | 151 | 547
323 | NV | Pershing County | 6753 | 151 | 543
323 | NV | Lander County | 5775 | 151 | 544
323 | NV | Storey County | 4010 | 151 | 545
323 | CA | Sierra County | 3240 | 151 | 345
323 | NV | Eureka County | 1987 | 151 | 544
323 | CA | Alpine County | 1175 | 151 | 338
324 | ID | Ada County | 392365 | 150 | 190
324 | ID | Elmore County | 27038 | 150 | 391
324 | ID | Payette County | 22623 | 150 | 389
324 | ID | Gem County | 16719 | 150 | 389
324 | ID | Washington County | 10198 | 150 | 389
324 | ID | Valley County | 9862 | 150 | 389
324 | ID | Boise County | 7028 | 150 | 390
324 | ID | Adams County | 3976 | 150 | 389
325 | ID | Kootenai County | 138494 | 147 | 388
325 | WA | Stevens County | 43531 | 147 | 695
325 | ID | Bonner County | 40877 | 147 | 388
325 | ID | Nez Perce County | 39265 | 147 | 388
325 | ID | Latah County | 37244 | 147 | 388
325 | ID | Idaho County | 16267 | 147 | 389
325 | WA | Pend Oreille County | 13001 | 147 | 695
325 | ID | Shoshone County | 12765 | 147 | 388
325 | ID | Boundary County | 10972 | 147 | 388
325 | ID | Benewah County | 9285 | 147 | 388
325 | ID | Clearwater County | 8761 | 147 | 388
325 | WA | Ferry County | 7551 | 147 | 695
325 | ID | Lewis County | 3821 | 147 | 388
326 | CA | Los Angeles County | 9818605 | 160 | 2
326 | CA | Orange County | 3010232 | 160 | 2
326 | CA | Riverside County | 2189641 | 160 | 2
326 | CA | San Bernardino County | 2035210 | 160 | 2
326 | CA | Ventura County | 823318 | 160 | 73
327 | CA | San Diego County | 3095313 | 161 | 18
328 | ID | Canyon County | 188923 | 150 | 391
328 | OR | Malheur County | 31313 | 150 | 608
328 | ID | Owyhee County | 11526 | 150 | 391
328 | OR | Harney County | 7422 | 150 | 611
329 | WA | Spokane County | 471221 | 147 | 109
329 | WA | Whitman County | 44776 | 147 | 700
329 | WA | Asotin County | 21623 | 147 | 700
329 | WA | Lincoln County | 10570 | 147 | 697
329 | WA | Garfield County | 2266 | 147 | 700
330 | OR | Umatilla County | 75889 | 168 | 608
330 | WA | Walla Walla County | 58781 | 168 | 700
330 | OR | Union County | 25748 | 168 | 608
330 | OR | Baker County | 16134 | 168 | 608
330 | OR | Morrow County | 11173 | 168 | 607
330 | OR | Grant County | 7445 | 168 | 608
330 | OR | Wallowa County | 7008 | 168 | 608
330 | WA | Columbia County | 4078 | 168 | 700
330 | OR | Gilliam County | 1871 | 168 | 607
330 | OR | Wheeler County | 1441 | 168 | 607
331 | CA | Fresno County | 930450 | 162 | 74
331 | CA | Tulare County | 442179 | 162 | 150
331 | CA | Kings County | 152982 | 162 | 347
331 | CA | Madera County | 150865 | 162 | 339
332 | CA | Kern County | 839631 | 160 | 97
332 | CA | Santa Barbara County | 423895 | 160 | 124
332 | CA | San Luis Obispo County | 269637 | 160 | 340
333 | WA | Yakima County | 243231 | 169 | 191
333 | WA | Benton County | 175177 | 169 | 214
333 | WA | Grant County | 89120 | 169 | 697
333 | WA | Franklin County | 78163 | 169 | 214
333 | WA | Chelan County | 72453 | 169 | 694
333 | WA | Okanogan County | 41120 | 169 | 694
333 | WA | Kittitas County | 40915 | 169 | 697
333 | WA | Douglas County | 38431 | 169 | 694
333 | WA | Adams County | 18728 | 169 | 697
334 | CA | El Dorado County | 181058 | 164 | 346
334 | CA | Amador County | 38091 | 164 | 338
335 | OR | Deschutes County | 157733 | 167 | 611
335 | OR | Wasco County | 25213 | 167 | 607
335 | OR | Hood River County | 22346 | 167 | 607
335 | OR | Jefferson County | 21720 | 167 | 607
335 | OR | Crook County | 20978 | 167 | 611
335 | WA | Klickitat County | 20318 | 167 | 699
335 | WA | Skamania County | 11066 | 167 | 699
335 | OR | Lake County | 7895 | 167 | 611
335 | OR | Sherman County | 1765 | 167 | 607
336 | CA | Monterey County | 415057 | 163 | 126
336 | CA | Merced County | 255793 | 163 | 339
336 | CA | San Benito County | 55269 | 163 | 339
337 | CA | Santa Clara County | 1781642 | 163 | 27
337 | CA | Alameda County | 1510271 | 163 | 7
337 | CA | Contra Costa County | 1049025 | 163 | 7
337 | CA | San Francisco County | 805235 | 163 | 7
337 | CA | San Mateo County | 718451 | 163 | 7
337 | CA | San Joaquin County | 685306 | 163 | 107
337 | CA | Stanislaus County | 514453 | 163 | 142
337 | CA | Santa Cruz County | 262382 | 163 | 175
337 | CA | Marin County | 252409 | 163 | 7
337 | CA | Tuolumne County | 55365 | 163 | 338
337 | CA | Calaveras County | 45578 | 163 | 338
337 | CA | Mariposa County | 18251 | 163 | 338
338 | CA | Sacramento County | 1418788 | 164 | 35
338 | CA | Placer County | 348432 | 164 | 35
338 | CA | Yolo County | 200849 | 164 | 35
339 | CA | Butte County | 220000 | 164 | 215
339 | CA | Nevada County | 98764 | 164 | 345
339 | CA | Sutter County | 94737 | 164 | 274
339 | CA | Yuba County | 72155 | 164 | 274
339 | CA | Glenn County | 28122 | 164 | 343
339 | CA | Colusa County | 21419 | 164 | 343
340 | WA | Whatcom County | 201140 | 170 | 270
340 | WA | Skagit County | 116901 | 170 | 693
340 | WA | San Juan County | 15769 | 170 | 693
341 | CA | Shasta County | 177223 | 165 | 254
341 | OR | Klamath County | 66380 | 165 | 611
341 | CA | Tehama County | 63463 | 165 | 343
341 | CA | Siskiyou County | 44900 | 165 | 336
341 | CA | Modoc County | 9686 | 165 | 337
342 | WA | King County | 1931249 | 170 | 20
342 | WA | Pierce County | 795225 | 170 | 82
342 | WA | Snohomish County | 713335 | 170 | 20
342 | WA | Thurston County | 252264 | 170 | 242
342 | WA | Kitsap County | 251133 | 170 | 212
342 | WA | Lewis County | 75455 | 170 | 698
342 | WA | Pacific County | 20920 | 170 | 698
343 | CA | Sonoma County | 483878 | 163 | 123
343 | CA | Solano County | 413344 | 163 | 111
343 | CA | Napa County | 136484 | 163 | 111
344 | OR | Multnomah County | 735334 | 167 | 30
344 | OR | Washington County | 529710 | 167 | 30
344 | WA | Clark County | 425363 | 167 | 30
344 | OR | Clackamas County | 375992 | 167 | 30
344 | OR | Marion County | 315335 | 167 | 148
344 | OR | Linn County | 116672 | 167 | 609
344 | WA | Cowlitz County | 102410 | 167 | 698
344 | OR | Yamhill County | 99193 | 167 | 606
344 | OR | Benton County | 85579 | 167 | 609
344 | OR | Polk County | 75403 | 167 | 148
344 | OR | Columbia County | 49351 | 167 | 606
344 | OR | Lincoln County | 46034 | 167 | 609
344 | OR | Clatsop County | 37039 | 167 | 606
344 | OR | Tillamook County | 25250 | 167 | 606
344 | WA | Wahkiakum County | 3978 | 167 | 698
345 | OR | Lane County | 351715 | 166 | 135
345 | OR | Jackson County | 203206 | 166 | 229
345 | OR | Douglas County | 107667 | 166 | 610
345 | OR | Josephine County | 82713 | 166 | 610
345 | OR | Coos County | 63043 | 166 | 610
345 | CA | Del Norte County | 28610 | 166 | 336
345 | OR | Curry County | 22364 | 166 | 610
346 | CA | Humboldt County | 134623 | 163 | 336
346 | CA | Mendocino County | 87841 | 163 | 344
346 | CA | Lake County | 64665 | 163 | 344
346 | CA | Trinity County | 13786 | 163 | 336
347 | WA | Island County | 78506 | 170 | 693
347 | WA | Grays Harbor County | 72797 | 170 | 696
347 | WA | Clallam County | 71404 | 170 | 693
347 | WA | Mason County | 60699 | 170 | 696
347 | WA | Jefferson County | 29872 | 170 | 693
348 | AK | Anchorage Municipality | 291826 | 171 | 187
348 | AK | Fairbanks North Star Borough | 97581 | 171 | 315
348 | AK | Matanuska-Susitna Borough | 88995 | 171 | 316
348 | AK | Kenai Peninsula Borough | 55400 | 171 | 316
348 | AK | Juneau City and Borough | 31275 | 171 | 317
348 | AK | Bethel Census Area | 17013 | 171 | 316
348 | AK | Kodiak Island Borough | 13592 | 171 | 316
348 | AK | Ketchikan Gateway Borough | 13477 | 171 | 317
348 | AK | Valdez-Cordova Census Area | 9636 | 171 | 316
348 | AK | Nome Census Area | 9492 | 171 | 315
348 | AK | North Slope Borough | 9430 | 171 | 315
348 | AK | Sitka City and Borough | 8881 | 171 | 317
348 | AK | Northwest Arctic Borough | 7523 | 171 | 315
348 | AK | Wade Hampton Census Area | 7459 | 171 | 315
348 | AK | Southeast Fairbanks Census Area | 7029 | 171 | 315
348 | AK | Yukon-Koyukuk Census Area | 5588 | 171 | 315
348 | AK | Aleutians West Census Area | 5561 | 171 | 316
348 | AK | Prince of Wales-Hyder Census Area | 5559 | 171 | 317
348 | AK | Dillingham Census Area | 4847 | 171 | 316
348 | AK | Petersburg Census Area | 3815 | 171 | 317
348 | AK | Aleutians East Borough | 3141 | 171 | 316
348 | AK | Haines Borough | 2508 | 171 | 317
348 | AK | Wrangell City and Borough | 2369 | 171 | 317
348 | AK | Hoonah-Angoon Census Area | 2150 | 171 | 317
348 | AK | Denali Borough | 1826 | 171 | 315
348 | AK | Lake and Peninsula Borough | 1631 | 171 | 316
348 | AK | Bristol Bay Borough | 997 | 171 | 316
348 | AK | Skagway Municipality | 968 | 171 | 317
348 | AK | Yakutat City and Borough | 662 | 171 | 317
349 | HI | Honolulu County | 953207 | 172 | 50
349 | HI | Hawaii County | 185079 | 172 | 387
349 | HI | Maui County | 154834 | 172 | 386
349 | HI | Kauai County | 67091 | 172 | 385
349 | HI | Kalawao County | 90 | 172 | 386
350 | PR | San Juan Municipio | 395326 | 174 | 91
350 | PR | Bayamón Municipio | 208116 | 174 | 91
350 | PR | Carolina Municipio | 176762 | 174 | 91
350 | PR | Ponce Municipio | 166327 | 174 | 147
350 | PR | Caguas Municipio | 142893 | 174 | 91
350 | PR | Guaynabo Municipio | 97924 | 174 | 91
350 | PR | Arecibo Municipio | 96440 | 174 | 202
350 | PR | Toa Baja Municipio | 89609 | 174 | 91
350 | PR | Mayagüez Municipio | 89080 | 174 | 169
350 | PR | Trujillo Alto Municipio | 74842 | 174 | 91
350 | PR | Toa Alta Municipio | 74066 | 174 | 91
350 | PR | Aguadilla Municipio | 60949 | 174 | 204
350 | PR | Vega Baja Municipio | 59662 | 174 | 91
350 | PR | Humacao Municipio | 58466 | 174 | 91
350 | PR | Rio Grande Municipio | 54304 | 174 | 91
350 | PR | Cabo Rojo Municipio | 50917 | 174 | 169
350 | PR | Juana Diaz Municipio | 50747 | 174 | 147
350 | PR | Cayey Municipio | 48119 | 174 | 91
350 | PR | Canóvanas Municipio | 47648 | 174 | 91
350 | PR | Isabela Municipio | 45631 | 174 | 204
350 | PR | Gurabo Municipio | 45369 | 174 | 91
350 | PR | Guayama Municipio | 45362 | 174 | 726
350 | PR | Manati Municipio | 44113 | 174 | 91
350 | PR | Cidra Municipio | 43480 | 174 | 91
350 | PR | San Sebastián Municipio | 42430 | 174 | 724
350 | PR | Yauco Municipio | 42043 | 174 | 724
350 | PR | Aguada Municipio | 41959 | 174 | 204
350 | PR | Hatillo Municipio | 41953 | 174 | 202
350 | PR | San Lorenzo Municipio | 41058 | 174 | 91
350 | PR | Coamo Municipio | 40512 | 174 | 726
350 | PR | Juncos Municipio | 40290 | 174 | 91
350 | PR | Moca Municipio | 40109 | 174 | 204
350 | PR | Vega Alta Municipio | 39951 | 174 | 91
350 | PR | Las Piedras Municipio | 38675 | 174 | 91
350 | PR | Dorado Municipio | 38165 | 174 | 91
350 | PR | Yabucoa Municipio | 37941 | 174 | 726
350 | PR | Corozal Municipio | 37142 | 174 | 91
350 | PR | Fajardo Municipio | 36993 | 174 | 91
350 | PR | San Germán Municipio | 35527 | 174 | 169
350 | PR | Camuy Municipio | 35159 | 174 | 202
350 | PR | Utuado Municipio | 33149 | 174 | 725
350 | PR | Morovis Municipio | 32610 | 174 | 725
350 | PR | Salinas Municipio | 31078 | 174 | 91
350 | PR | Lares Municipio | 30753 | 174 | 724
350 | PR | Naranjito Municipio | 30402 | 174 | 91
350 | PR | Barranquitas Municipio | 30318 | 174 | 726
350 | PR | Loiza Municipio | 30060 | 174 | 91
350 | PR | Añasco Municipio | 29261 | 174 | 169
350 | PR | Aguas Buenas Municipio | 28659 | 174 | 91
350 | PR | Cataño Municipio | 28140 | 174 | 91
350 | PR | Naguabo Municipio | 26720 | 174 | 727
350 | PR | Villalba Municipio | 26073 | 174 | 147
350 | PR | Quebradillas Municipio | 25919 | 174 | 202
350 | PR | Aibonito Municipio | 25900 | 174 | 726
350 | PR | Lajas Municipio | 25753 | 174 | 724
350 | PR | Sabana Grande Municipio | 25265 | 174 | 724
350 | PR | Barceloneta Municipio | 24816 | 174 | 91
350 | PR | Peñuelas Municipio | 24282 | 174 | 724
350 | PR | Orocovis Municipio | 23423 | 174 | 725
350 | PR | Santa Isabel Municipio | 23274 | 174 | 726
350 | PR | Guayanilla Municipio | 21581 | 174 | 724
350 | PR | Comerio Municipio | 20778 | 174 | 726
350 | PR | Luquillo Municipio | 20068 | 174 | 91
350 | PR | Arroyo Municipio | 19575 | 174 | 726
350 | PR | Adjuntas Municipio | 19483 | 174 | 724
350 | PR | Guánica Municipio | 19427 | 174 | 724
350 | PR | Patillas Municipio | 19277 | 174 | 726
350 | PR | Ciales Municipio | 18782 | 174 | 725
350 | PR | Hormigueros Municipio | 17250 | 174 | 169
350 | PR | Jayuya Municipio | 16642 | 174 | 725
350 | PR | Rincón Municipio | 15200 | 174 | 723
350 | PR | Ceiba Municipio | 13631 | 174 | 727
350 | PR | Florida Municipio | 12680 | 174 | 91
350 | PR | Maunabo Municipio | 12225 | 174 | 726
350 | PR | Las Marias Municipio | 9881 | 174 | 724
350 | PR | Vieques Municipio | 9301 | 174 | 728
350 | PR | Maricao Municipio | 6276 | 174 | 724
350 | PR | Culebra Municipio | 1818 | 174 | 729
351 | AZ | Yavapai County | 211033 | 154 | 319

Federal Communications Commission.
Jessica Almond,
Chief of Staff, Wireless Telecommunications Bureau.

[FR Doc. 2013-30143 Filed 12-19-13; 8:45 am]

BILLING CODE 6712-01-P